FEDERAL COMMUNICATIONS COMMISSION

47 CFR Parts 0, 1, and 64

[CG Docket No. 17-59, WC Docket No. 17-97; FCC 22-37; FR ID 92926]

Advanced Methods To Target and Eliminate Unlawful Robocalls, Call Authentication Trust Anchor

AGENCY: Federal Communications Commission.

ACTION: Proposed rule.

SUMMARY: In this document, the Federal Communications Commission (Commission or FCC) proposes and seeks comment on a number of actions aimed protecting consumers from illegal calls. The document proposes and seeks comment on a number of steps to protect American consumers from all illegal calls, whether they originate domestically or abroad. Specifically, this document proposes to require domestic intermediate providers that are not gateway providers in the call path to apply STIR/SHAKEN caller ID authentication to calls. It also seeks comment on a number of robocall mitigation requirements, enhancements to enforcement, clarifications on certain aspects of STIR/SHAKEN, and limitations on the use of U.S. North American Numbering Plan (NANP) numbers for foreign-originated calls and indirect number access.

DATES: Comments are due on or before August 17, 2022, and reply comments are due on or before September 16, 2022. Written comments on the Paperwork Reduction Act proposed information collection requirements must be submitted by the public, Office of Management and Budget (OMB), and other interested parties on or before September 16, 2022.

ADDRESSES: Pursuant to §§ 1.415 and 1.419 of the Commission's rules, 47 CFR 1.415, 1.419, interested parties may file comments and reply comments on or before the dates indicated in this document. Comments and reply comments may be filed using the Commission's Electronic Comment Filing System (ECFS). See Electronic Filing of Documents in Rulemaking Proceedings, 63 FR 24121 (1998). Interested parties may file comments or reply comments, identified by CG Docket No. 17-59 and WC Docket No. 17-97 by any of the following methods:

• Electronic Filers: Comments may be filed electronically using the internet by accessing ECFS: https://www.fcc.gov/ecfs/.

• Paper Filers: Parties who choose to file by paper must file an original and one copy of each filing.

• Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, 35 FCC Rcd 2788 (March 19, 2020), https://www.fcc.gov/document/fcc-closes-headquarters-open-window-and-changes-hand-delivery-policy.

• People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: For further information, please contact either Jonathan Lechter, Attorney Advisor, Competition Policy Division, Wireline Competition Bureau, at Jonathan.lechter@fcc.gov or at (202) 418-0984, or Jerusha Burnett, Attorney Advisor, Consumer Policy Division, Consumer and Governmental Affairs Bureau, at jerusha.burnett@fcc.gov or at (202) 418-0526. For additional information concerning the Paperwork Reduction Act proposed information collection requirements contained in this document, send an email to PRA@fcc.gov or contact Cathy Williams at (202) 418-2918.

SUPPLEMENTARY INFORMATION: You may submit comments, identified by the Commission's Seventh Further Notice of Proposed Rulemaking in CG Docket No. 17-59 and Fifth Further Notice of Proposed Rulemaking in WC Docket No. 17-97, FCC 22-37, adopted on May 19, 2022, and released on May 20, 2022. The full text of this document is available for public inspection at the following internet address: https://docs.fcc.gov/public/attachments/FCC-22-37A1.pdf. To request materials in accessible formats for people with disabilities (e.g., Braille, large print, electronic files, audio format, etc.), send an email to fcc504@fcc.gov or call the Consumer & Governmental Affairs Bureau at (202) 418-0530 (voice), or (202) 418-0432 (TTY).

In addition to filing comments with the Secretary, a copy of any comments on the Paperwork Reduction Act proposed information collection requirements contained herein should be submitted to the Federal Communications Commission via email to PRA@fcc.gov and to Cathy Williams, FCC, via email to Cathy.Williams@fcc.gov.

Initial Paperwork Reduction Act of 1995 Analysis

This document contains proposed information collection requirements. The Commission, as part of its continuing effort to reduce paperwork burdens, invites the general public to comment on the information collection requirements contained in this document, as required by the Paperwork Reduction Act of 1995, Public Law 104-13. Public and agency comments are due September 16, 2022.

Comments should address: (a) whether the proposed collection of information is necessary for the proper performance of the functions of the Commission, including whether the information shall have practical utility; (b) the accuracy of the Commission's burden estimates; (c) ways to enhance the quality, utility, and clarity of the information collected; (d) ways to minimize the burden of the collection of information on the respondents, including the use of automated collection techniques or other forms of information technology; and (e) way to further reduce the information collection burden on small business concerns with fewer than 25 employees. In addition, pursuant to the Small Business Paperwork Relief Act of 2002, Public Law 107-198, see 44 U.S.C. 3506(c)(4), the Commission seeks specific comment on how it might further reduce the information collection burden for small business concerns with fewer than 25 employees.

Synopsis

Seventh Further Notice of Proposed Rulemaking and Fifth Further Notice of Proposed Rulemaking

1. In the final rule regarding gateway providers (Gateway Provider Order) (FCC 22-37), published elsewhere in this issue of the Federal Register, the Commission takes steps to protect American consumers from foreign-originated illegal calls by adopting a number of rules that focus on gateway providers as the entry point onto the U.S. network. In this further notice of proposed rulemaking (FNPRM), the Commission further proposes and seeks comment on expanding some of these rules to cover other providers in the call path, along with additional steps to protect American consumers from all illegal calls, whether they originate domestically or abroad.

2. First, the Commission proposes to extend its caller ID authentication requirement to cover domestic intermediate providers that are not gateway providers in the call path. Second, the Commission seeks comment on extending some, but not all, of the robocall mitigation duties the Commission adopts in the Gateway Provider Order to all domestic providers in the call path. These mitigation duties include: expanding and modifying its existing affirmative obligations; requiring downstream providers to block calls from non-gateway providers when those providers fail to comply; the general mitigation standard; and filing a mitigation plan in the Robocall Mitigation Database regardless of STIR/SHAKEN implementation status. The Commission also seeks comment on additional measures to address illegal robocalls, including: ways to enhance the enforcement of its rules; clarifying certain aspects of its STIR/SHAKEN regime; and placing limitations on the use of U.S. NANP numbers for foreign-originated calls and indirect number access.

3. Because the TRACED Act defines “voice service” in a manner that excludes intermediate providers, our authentication and Robocall Mitigation Database rules use “voice service provider” in this manner. Our call blocking rules, many of which the Commission adopted prior to adoption of the TRACED Act, use a definition of “voice service provider” that includes intermediate providers. In that context, use of the TRACED Act definition of “voice service” would create inconsistency with our existing rules. To avoid confusion, for purposes of this item, we use the term “voice service provider” consistent with the TRACED Act definition and where discussing caller ID authentication or the Robocall Mitigation Database. In all other instances, we use “provider” and specify the type of provider as appropriate. Unless otherwise specified, we mean any provider, regardless of its position in the call path.

4. The Commission anticipates that the impact of its proposals will account for another large share of the annual $13.5 billion minimum benefit the Commission originally estimated in the First Caller ID Authentication Report and Order, 85 FR 22029 (April 21, 2020), and FNPRM, 85 FR 22099 (April 21, 2022), for eliminating unlawful robocalls, in addition to the collective impact of the rules the Commission adopts in the Gateway Provider Order and the rules adopted earlier in these proceedings. While each of the proposed requirements on their own may not fully accomplish that goal, viewed collectively, the Commission expects that they will achieve a large share of the annual $13.5 billion minimum benefit. The Commission also expects that this share of benefits will far exceed the costs imposed on providers. The Commission seeks comment on this analysis and on the possible benefits of the requirements the Commission proposes.

Extending Authentication Requirement to All Intermediate Providers

5. To further combat illegal robocalls consistent with the rules the Commission adopts in the Gateway Provider Order, the Commission proposes to require that all U.S. intermediate providers authenticate caller ID information consistent with STIR/SHAKEN for Session Initiation Protocol (SIP) calls that are carrying a U.S. number in the caller ID field and to require all providers to comply with the most recent version of the standards as they are released. The Commission seeks comment on these proposals.

6. As the Commission has previously explained, application of caller ID authentication by intermediate providers “will provide significant benefits in facilitating analytics, blocking, and traceback by offering all parties in the call ecosystem more information.” At the time the Commission reached this conclusion, given the concerns that an authentication requirement on all intermediate providers “was unduly burdensome in some cases,” the Commission established that instead of authenticating unauthenticated calls, intermediate providers could “register and participate with the industry traceback consortium as an alternative means of complying with [its] rules.”

7. Since the Commission established those requirements in the Second Caller ID Authentication Report and Order, 85 FR 73360 (Nov. 17, 2020), in the Fourth Call Blocking Order, 86 FR 17726 (April 6, 2021), the Commission subsequently required all providers in the call path—including gateway providers and other intermediate providers—to respond fully and in a timely manner to traceback requests. This rule has effectively mooted the choice given to intermediate providers in the earlier Second Caller ID Authentication Report and Order to authenticate calls or cooperate with traceback requests. Evidence shows that robocalls are a significant and increasing problem. To further strengthen the STIR/SHAKEN regime and protect consumers and the integrity of the U.S. telephone network, the Commission proposes that all intermediate providers should be required to authenticate unauthenticated SIP calls that they receive. The Commission seeks comment on this proposal.

8. Intermediate providers could play a crucial role in further promoting effective, network-wide caller ID authentication. Requiring all intermediate providers to authenticate caller ID information for all unauthenticated SIP calls will provide information to downstream providers that will facilitate analytics and promote traceback efforts. SHAKEN verification, even “C-level” attestation, provides relevant and helpful information to downstream providers, particularly as the STIR/SHAKEN regime becomes even more ubiquitous. Adopting this proposal would bring all U.S. providers within the STIR/SHAKEN regime and prevent gaming by providers, allowing “for more robust abilities to either trust the caller or perform traceback because an illegal caller can be more easily identified.” Indeed, STIR/SHAKEN becomes more useful the more providers there are that employ it.

9. The Commission believes this proposal is in line with commenter assertions that expanding call authentication requirements will have a “significant impact in curtailing illegal robocalls” and that imposing these obligations “on more providers will promote fewer spoofed calls overall.” The Commission anticipates that its expansion of the STIR/SHAKEN regime may spur other countries and regulators to develop and adopt STIR/SHAKEN, further increasing the standards' benefit. The Commission seeks comment on this analysis and on the possible benefits of the requirement the Commission proposes. Are there reasons the Commission should not require all intermediate providers to implement STIR/SHAKEN for SIP calls? Should the Commission specifically target providers that are most responsible for illegal robocalls? Are there any downsides to only targeting specific providers?

10. The Commission also seeks comment on the proposal's implementation costs and burdens. Acknowledging that many intermediate providers are also gateway providers to some degree and are now required to implement STIR/SHAKEN per the Gateway Provider Order, do the benefits of an intermediate provider authentication requirement outweigh the costs and burdens? Certain commenters assert that gateway providers are in a unique position to “arrest the flow of harmful scam calls and illegal robocalls.” Would it be a greater burden to impose this obligation on non-gateway intermediate providers? Indeed, a majority of commenters oppose expanding authentication requirements, even to gateway providers, saying that the implementation costs would be significant without additional benefits. While the Commission previously acknowledged these claims and “thus offer[ed] an alternative method of compliance,” it further noted that “[p]roviding this option . . . further allows for continued evaluation of the role intermediate providers play in authenticating the caller ID information of the unauthenticated calls that they receive amid the continued deployment of the STIR/SHAKEN framework.” Has the intervening experience with the entirety of the Commission's caller ID authentication requirements and illegal robocalls shed further light on the role of intermediate providers in preventing these calls from reaching consumers?

11. The Commission does not anticipate that its proposal to expand this requirement to the remaining intermediate providers will be unusually costly or unduly burdensome compared to gateway providers and voice service providers that are already required to authenticate unauthenticated SIP calls as commenters have not provided detailed support for assertions that such a requirement will cost significant time and resources to implement. Further, many of the remaining intermediate providers are also gateway providers that will have already implemented STIR/SHAKEN in at least some portion of their networks, likely lowering their compliance costs to meet the requirement the Commission proposes. Does this fact undercut the argument that expanding the authentication requirement would impose an undue burden on those providers? In the accompanying Gateway Provider Order, the Commission finds that the benefits of a gateway authentication requirement outweigh the burdens. Should the Commission's rationale differ regarding the remaining intermediate providers? The Commission reiterates that as more and more providers implement STIR/SHAKEN, the Commission anticipates that technology and solutions will be more widely available and less costly to implement. The Commission seeks comment on this analysis. Is there any reason to believe that authentication is more costly for the remaining intermediate providers as compared to other providers or that the benefit of lower-level attestations would be limited?

12. Requirement. The Commission proposes that to comply with the requirement to authenticate calls, all intermediate providers must authenticate caller ID information for all SIP calls they receive with U.S. numbers in the caller ID field for which the caller ID information has not been authenticated and which they will exchange with another provider as a SIP call. This would replace the existing rule under which intermediate providers have the option to authenticate rather than cooperate with traceback efforts and supplement the rule for gateway providers the Commission adopts in the accompanying Gateway Provider Order. The Commission seeks comment on this approach, as well as on whether and how to modify this proposal.

13. Consistent with the Commission's existing intermediate provider authentication obligation where such a provider chose the authentication route, and the rule adopted for gateway providers in the accompanying Gateway Provider Order, the Commission proposes that an intermediate provider satisfies its authentication requirement if it adheres to the three Alliance for Telecommunications Industry Solutions (ATIS) standards that are the foundation of STIR/SHAKEN—ATIS-1000074, ATIS-1000080, and ATIS-1000084—and all documents referenced therein. The Commission also proposes that compliance with the most current versions of these standards as of the compliance deadline set in the Gateway Provider Order released concurrently with this FNPRM, including any errata as of that date or earlier, represents the minimum requirement to satisfy its rules.

14. Compliance Deadline. The Commission seeks comment on when the Commission should require all intermediate providers' authentication obligation to become effective, balancing the public interest of prompt implementation by these providers with the need for these providers to have sufficient time to implement the proposed obligations. The Commission notes that voice service providers were previously able to meet the 18-month deadline to authenticate all unauthenticated SIP calls carrying U.S. NANP numbers, but the Commission found a shorter deadline to be reasonable for gateway providers in the accompanying Gateway Provider Order. The Commission's rules adopted pursuant to the TRACED Act grant certain providers exemptions and extensions from this deadline. Should the Commission require all intermediate providers to authenticate all unauthenticated SIP calls carrying U.S. NANP numbers within six months after the Commission adopts an order released pursuant to this FNPRM? Given that there is only a small group of remaining providers that have not already been required to implement STIR/SHAKEN, can implementation be accomplished in six months? Is a shorter deadline reasonable because the industry has much more experience with implementation than when the Commission originally required voice service providers to implement STIR/SHAKEN, and there is evidence that STIR/SHAKEN implementation costs have dropped since the Commission first adopted the requirement for voice service providers? Would imposing a shorter deadline on all intermediate providers unnecessarily impose greater costs and burdens that would not be fully offset by associated benefits? Are there any reasons to impose a longer deadline?

15. The Commission also anticipates that the current token access policy will not present a material barrier to intermediate providers meeting their authentication obligation and that the Secure Telephone Identity Governance Authority (STI-GA) can address any concerns before these providers are required to authenticate calls. Do commenters agree? Additionally, to ensure that these providers are not unfairly penalized and are eligible for the same relief, in line with the Commission's current rules for voice service providers, and now gateway providers, the Commission proposes to provide a STIR/SHAKEN extension to intermediate providers that are unable to obtain a token due to the STI-GA token access policy. Does this extension alleviate implementation concerns?

16. The Commission also proposes, consistent with its requirement for voice service providers and gateway providers, that all intermediate providers have the flexibility to assign the level of attestation appropriate to the call based on the applicable version of the standards and the available call information. As discussed in the accompanying Gateway Provider Order, there are significant benefits to be gained from higher attestation levels. The Commission seeks comment on this proposal. Should the Commission modify this proposal? If so, how should the Commission change it and what would be the impacts on costs and benefits?

17. Authentication Obligations for All Providers. The Commission also seeks comment on requiring all providers to comply with the current version of the STIR/SHAKEN standards (ATIS-1000074, ATIS-1000080, and ATIS-1000084) and any other internet Protocol (IP) authentication standards adopted as of the compliance deadline. The Commission concludes that mandating a single version of the standards across providers will promote uniformity and ensure that providers are using the most up-to-date caller ID authentication tools. The Commission seeks comment on this conclusion. Is there any reason the Commission should not require providers to comply with updated versions of the standards? The Commission also seeks comment on a streamlined mechanism for the Wireline Competition Bureau or other appropriate Bureau to require providers to comply with future versions of the STIR/SHAKEN standard as they are developed and made available. Should the Commission delegate to the Wireline Competition Bureau authority to require all providers to implement a newly available updated standard through notice and opportunity to comment? Should the Commission incorporate the most recent STIR/SHAKEN standards and any updates the Commission requires in its rules? What are the pros and cons of these approaches?

18. The Commission seeks comment on whether it should require all providers to adopt a non-IP caller ID authentication solution. A number of commenters filed specific proposals in the record for authentication on non-IP networks for gateway providers as well as voice service providers, and some of these solutions work on both IP and non-IP networks. Should the Commission adopt any of these proposals as set forth in the comments or in some modified form? What are the respective benefits and burdens of these specific proposals? Should the Commission adopt any of the time division multiplex (TDM) call authentication solutions developed by ATIS? Are there any other alternative proposals that the Commission should consider for all domestic providers in the call path? Should the Commission require compliance with the most recent version of a non-IP standard available at the time an order is released pursuant to this FNPRM? Should the Commission delegate authority to the Wireline Competition Bureau or other Bureau to require compliance with newly available versions of the adopted standard through notice and comment and incorporate by reference that standard in its rules? Voice service providers and gateway providers currently have a choice whether to implement a non-IP caller ID authentication solution or, in the alternative, participate with a working group, standards group, or consortium to develop a solution. In the event the Commission moves forward with requiring a non-IP solution for all providers, the Commission seeks comment on eliminating this alternative obligation as moot because the selected standard would have been developed and its implementation required.

Extending Certain Mitigation Duties to All Domestic Providers

19. The Commission seeks comment on broadening the classes of providers subject to certain mitigation obligations, including some of the obligations it adopts in the accompanying Gateway Provider Order for gateway providers. The Commission's existing rules, including the “reasonable steps” robocall mitigation duty, the Robocall Mitigation Database certification and mitigation program adoption and submission requirements, and the affirmative obligations for providers, do not currently apply to all domestic providers, with the exception of the requirement to respond to traceback. Prior to the adoption of the Gateway Provider Order, the “reasonable steps” mitigation duty and the requirement to adopt and submit a mitigation plan and certification applied only to originating providers, and the mitigation duty and plan submission requirements only applied to the extent that those providers had not yet fully implemented STIR/SHAKEN. Similarly, the rules that require effective mitigation or blocking following Commission notification require any provider that receives such a notification to investigate and respond to the Commission, but only requires originating and gateway providers to take specific action to prevent illegal traffic.

20. In the accompanying Gateway Provider Order, the Commission adopts several new or enhanced robocall mitigation obligations for gateway providers, as well as one for providers immediately downstream in the call path from the gateway provider. The Commission also extends the robocall mitigation program and certification requirements to gateway providers, regardless of whether they have implemented STIR/SHAKEN. Once these rules become effective, some providers will remain outside the scope of these requirements. To close this loophole, the Commission seeks comment on requiring all domestic providers, regardless of whether they have implemented STIR/SHAKEN, to comply with certain robocall mitigation requirements.

Enhancing the Existing Affirmative Obligations for All Domestic Providers

21. In the prior Fourth Call Blocking Order, the Commission adopted three affirmative obligations for providers to better protect consumers from illegal calls. In the Gateway Provider Order, the Commission enhanced two of these obligations for gateway providers and adopted a related know-your-upstream-provider requirement. Here, the Commission seeks comment on expanding two of those enhanced obligations, as well as enhancing the existing requirement for a provider to take affirmative, effective measures to prevent new and renewing customers from using its network to originate illegal calls.

22. 24-hour Traceback Requirement. The Commission seeks comment on extending the requirement to respond to traceback requests from the Commission, civil and criminal law enforcement, and the industry traceback consortium within 24 hours of receipt of the request to all U.S.-based providers in the call path. In the Gateway Provider Order the Commission requires gateway providers to respond to traceback requests within 24 hours due to the need for quick responses when foreign providers are also involved. Would requiring all domestic providers to respond within 24 hours provide additional benefit? Are there alternative reasons to require a 24-hour response when calls are wholly domestic?

23. If the Commission extends this requirement to cover all U.S-based providers in the call path, how should it address situations where providers may not be able to respond within 24 hours? The Commission recognizes that providers that do not receive many requests may be less familiar with the process, and that smaller providers in particular may struggle to respond quickly. Are there alternative approaches to the Commission's standard waiver process that would better address the needs of providers that cannot reliably respond within 24 hours?

24. In particular, the Commission seeks comment on whether it should adopt an approach to traceback based on volume of requests received, rather than position in the call path or size of provider. For example, should the Commission adopt a tiered approach that: requires providers with fewer than 10 traceback requests a month to respond “fully and in a timely manner,” without the need to respond within 24 hours; requires providers that receive from 10 to 99 traceback requests a month to maintain an average 24-hour response time; and requires providers with 100 or more traceback requests a month to always respond within 24 hours, barring exceptional circumstances that warrant relief through a waiver under the “good cause” standard of § 1.3 of the Commission's rules? These circumstances could include sudden unforeseen circumstances that prevent compliance for a limited period or for a limited number of calls. The Commission cautions that any applicant for waiver “faces a high hurdle even at the starting gate.” Would different thresholds be more appropriate for the tiers? Should the thresholds be based on the prior six months' average number of traceback requests or some other metric?

25. The Commission believes that, at least with regard to smaller providers, the number of requests received is indicative of whether a particular provider contributes significantly to the illegal call problem. The Commission seeks comment on this belief. Are there instances where a smaller provider might receive a high volume of traceback requests despite that provider being a good actor in the calling ecosystem? The Commission acknowledges that adopting requests-per-month thresholds will likely mean that larger providers will be required to respond within 24 hours even when those providers are good actors. However, the Commission believes that larger providers are well positioned to meet a 24-hour response requirement and, in fact, already generally do so. The Commission seeks comment on this belief. Are there any substantial cost issues or other issues the Commission should consider in adopting such a requirement?

26. Blocking Following Commission Notification. The Commission seeks comment on requiring all domestic providers in the call path to block, rather than simply effectively mitigate, illegal traffic when notified of such traffic by the Commission, regardless of whether that traffic originates abroad or domestically. The Commission believes that having a single, uniform rule may provide additional benefits and reduce the overall burden. The Commission seeks comment on this belief. Are there benefits to having a single, uniform requirement for all domestic providers? Alternatively, are there benefits to maintaining the Commission's existing approach and allowing non-gateway providers to effectively mitigate, rather than block, such traffic?

27. If the Commission extends this requirement and require non-gateway providers to block, should it consider any modifications to the rule? The Commission's effective mitigation rule requires a different response if the provider is an originating provider than if the provider is an intermediate or terminating provider. Specifically, the originating provider must effectively mitigate the traffic, while an intermediate or terminating provider must only notify the Commission of the source of the traffic and then, if possible, take steps to mitigate the traffic. As a result, there are four possible ways in which the Commission could enhance this rule: (1) it could require all providers, regardless of position in the call path, to block illegal traffic when notified of such traffic by the Commission; (2) it could requiring originating providers to block traffic when notified by the Commission, but only require intermediate and terminating providers to effectively mitigate that traffic; (3) it could require originating providers to block illegal traffic when notified, but only require intermediate and terminating providers to identify the source of the traffic and, if possible, block; or (4) it could require originating providers to effectively mitigate illegal traffic, and require intermediate and terminating providers to block. In all of these cases, gateway providers would be required to block consistent with the rule the Commission adopted in the Gateway Provider Order. Are there particular benefits to any of these approaches? Are there any other approaches the Commission could take? Are there any cost difficulties or other issues the Commission should consider?

28. Effective Measures to Prevent New and Renewing Customers from Originating Illegal Calls. The Commission seeks comment on whether, and if so how, it should further clarify its rule requiring providers to take affirmative, effective measures to prevent new and renewing customers from using their network to originate illegal calls. In the Fourth Call Blocking Order, the Commission allowed providers flexibility to determine how best to comply with this requirement. Should the Commission now modify this approach? If so, what steps should the Commission require providers to take with regard to their customers? If the Commission should maintain its flexible approach, is there value in providing further guidance as to how providers can best comply? If so, what might this guidance include? Should the Commission extend a similar requirement to all providers in the call path, in place of or in addition to its existing requirement.

29. The Commission seeks comment on requiring originating providers to ensure that customers originating non-conversational traffic only seek to originate lawful calls. For example, should the Commission require originating providers to investigate such customers prior to allowing them access to high-volume origination services? If so, should the Commission require originating providers to take certain, defined steps as part of this investigation, or allow flexibility? Should the Commission require originating providers to certify, either in the Robocall Mitigation Database or through some other means, that they have conducted these investigations and determined that their customers are originating illegal calls? If a customer nonetheless uses an originating provider's network to place illegal calls, should the Commission adopt a strict liability standard, or allow the provider to terminate or otherwise modify its relationship with the customer and prevent future illegal traffic?

30. ZipDX states that “non-conversational traffic” is “traffic that has an average call duration of less than two minutes.” The Commission seeks comment on this proposed definition. While some illegal calls are “conversational,” many are not; the Commission believes that stopping non-conversational illegal calls would significantly reduce the number of illegal calls consumers receive. The Commission seeks comment on this belief. Is a focus on non-conversational traffic appropriate, or should the Commission maintain its broader focus on illegal calls generally? Alternatively, could the Commission focus on both: maintaining its existing requirement as to illegal calls generally, but adding enhanced obligations for non-conversational traffic?

31. The Commission believes that originating providers, as the providers with a direct relationship to callers, are in the best position to know what traffic a caller seeks to originate. The Commission seeks comment on this belief. Is the Commission's focus on originating providers correct, or should it include other providers, such as intermediate providers, as ZipDX suggests? If the Commission includes intermediate or terminating providers, should the requirement be the same, or modified? The Commission notes that there is wanted, and even important, non-conversational traffic. The Commission does not want emergency alerts, post-release follow up calls by hospitals, credit card fraud alerts, or similar important communication to be prevented by an intermediate or terminating provider that is not comfortable with potential liability for carrying non-conversational traffic. How could the Commission tailor its rules to allow this traffic to continue while still preventing illegal non-conversational traffic? Finally, the Commission seeks comment on alternative approaches. Should the Commission adopt all or some of ZipDX's specific proposals, which would impose obligations across the network, including requiring providers that choose to accept non-conversational traffic to meet certain obligations such as requiring A-level attestation for such calls, limiting of transit routes for these calls, and Robocall Mitigation Database certification? Are there any other approaches the Commission should consider?

Downstream Provider Blocking

32. The Commission seeks comment on requiring intermediate and terminating providers to block traffic from bad-actor providers, regardless of whether or not the bad actor is a gateway provider, pursuant to the Commission notification process it adopt in the Gateway Provider Order for providers downstream from the gateway. As discussed above, the Commission does not currently require any providers other than gateway or originating providers to block or effectively mitigate illegal traffic when notified by the Commission. In the Gateway Provider Order the Commission further requires the intermediate or terminating provider immediately downstream to block all traffic from the identified provider when notified by the Commission that the gateway provider failed to block. There is also an existing safe harbor for any provider to block traffic from a bad-actor provider. The Commission is concerned that the lack of consistency across all provider types could allow for unintended loopholes and it believes that having a single, uniform rule may provide additional benefits and reduce the overall burden. The Commission seeks comment on this belief. Are there any situations where the Commission should not require downstream providers to block all traffic from a bad-actor provider that has failed to meet its obligation to block or effectively mitigate? For example, if the Commission requires originating providers to block calls upon Commission notification, but only require intermediate and terminating providers to effectively mitigate such traffic, should its downstream provider blocking rule treat the originating provider for that traffic differently from an intermediate provider? If so, how? Are there risks to expanding this requirement to cover all domestic providers? If so, do the benefits justify these risks and their associated costs? If not, should the Commission take another approach to ensure that bad-actor providers cannot continue to send illegal traffic to American consumers? If the Commission extends the requirement, should it use the process described in the Gateway Provider Order or modify that process in some way? Are there any other issues the Commission should consider?

General Mitigation Standard

33. In line with the rule for voice service providers that have not implemented STIR/SHAKEN due to an extension or exemption and the general mitigation standard the Commission adopts in the Gateway Provider Order for gateway providers, in addition to specific mitigation requirements for which the Commission seeks comment above, the Commission proposes to extend a general mitigation standard to voice service providers that have implemented STIR/SHAKEN in the IP portions of their networks and to all intermediate providers. This standard would be the general duty to take “reasonable steps” to avoid originating or terminating (for voice service providers) or carrying or processing (for intermediate providers) illegal robocall traffic. This obligation would include filing a mitigation plan along with a certification in the Robocall Mitigation Database. In line with the Commission's rules for voice service providers and the rules it adopts for gateway providers in the accompanying Gateway Provider Order, the Commission proposes that such a plan is “sufficient if it includes detailed practices that can reasonably be expected to substantially reduce the origination [or carrying or processing] of illegal robocalls.” The Commission also proposes that a program is insufficient if a provider “knowingly or through negligence” serves as the originator or carries or processes calls for an illegal robocall campaign. Similar to the Commission's reasoning related to gateway providers, the Commission anticipates that a general mitigation obligation on all domestic providers would serve as “an effective backstop to ensure robocallers cannot evade any granular requirements [the Commission] adopt[s].” Are there reasons the Commission should not extend to all domestic providers the same general mitigation standard it adopts in the accompanying Gateway Provider Order? To the extent providers' networks are non-IP based, the Commission recognizes that they do not currently have an obligation to implement STIR/SHAKEN and thus already have an existing mitigation requirement. Should the Commission alter the general mitigation standard for all remaining providers in any way? If so, what should those modifications be?

34. The Commission anticipates that extending these requirements to all domestic providers would ease administration because U.S.-based providers would then be subject to the same obligations for all calls, regardless of the providers' respective roles in the call path. Regulatory symmetry would obviate the need for a carrier to engage in a call-by-call analysis to determine the role the provider plays for any given call—e.g., an intermediate provider may serve as a gateway provider for some calls but not for others—and “ensure the accountability of all providers that touch calls to U.S. consumers, regardless of whether they originate, serve as the gateway provider, or simply [carry or process] illegal robocalls.” Some commenters have asserted this is very difficult and burdensome. Are there additional benefits of imposing these requirements on all domestic providers? Are there any significant burdens if the Commission imposes these requirements on all domestic providers?

35. For the same reasons the Commission describes in the accompanying Gateway Provider Order, the Commission proposes adopting the “reasonable steps” standard for providers that have implemented STIR/SHAKEN in the IP portions of their networks rather than a standard building upon the obligation for providers to mitigate traffic by taking “affirmative, effective measures to prevent new and renewing customers from using their network to originate illegal calls” adopted in the Fourth Call Blocking Order. The Commission reiterates that the “affirmative, effective measures” standard does not apply to existing customers and focuses on call origination. Regardless, under the current rules and the rules the Commission adopts in the Gateway Provider Order, providers must still comply with the requirements to know the upstream provider or to take affirmative, effective measures to prevent new and renewing customers from using the network to originate illegal calls, as applicable, and steps a provider takes to meet one standard could meet the other, and vice versa.

36. Strengthening the Definition of “Reasonable Steps.” Rather than encouraging providers to regularly consider whether their current measures are effective and make adjustments accordingly to comply with the “reasonable steps” standard, the Commission seeks comment on whether it should instead define “reasonable steps” to require all domestic providers to take specific mitigation actions. What would such a definition look like? Is the Commission's standards-based approach sufficient? If not, what, if any, are specific “reasonable steps” the Commission can prescribe to avoid origination, carrying, and processing of illegal robocall traffic other than prohibiting providers from accepting traffic from providers that have not submitted a certification in the Robocall Mitigation Database or have been de-listed from the Robocall Mitigation Database pursuant to enforcement action?

37. Certain commenters assert that more prescriptive rules will ensure that providers take reasonable steps to stop illegal robocalls. For example, should the Commission require traffic monitoring for upstream service or any other specific type of traffic monitoring? Should any particular traffic monitoring metrics be used? Should providers be required to take any other specific actions to show compliance with their robocall mitigation plan to meet this standard? Should there be a higher burden for voice over internet protocol (VoIP) providers to meet the “reasonable steps” standard? If so, what would such a higher burden look like? Are other specific modifications to the “reasonable steps” standard appropriate?

38. The Commission believes it is important to close any existing loopholes and ensure that all domestic providers are subject to the same requirements regardless of their place in the call path, even though the Commission previously declined to follow a “one-size-fits-all” approach to mitigation. The Commission believes the benefits of such an approach would outweigh any burdens on providers. Are these expectations correct? What are the benefits of clarifying and expanding the Commission's requirements to all domestic providers? What are the costs or burdens associated with doing so?

39. Compliance Deadline. The Commission seeks comment on an appropriate deadline for all domestic providers not covered by the existing requirements for voice service providers or the requirements it adopts in the accompanying Gateway Provider Order for gateway providers to comply with the proposed “reasonable steps” standard. Would 30 or 60 days after the effective date of any order the Commission may adopt imposing this requirement on these providers be sufficient? Are there any reasons the Commission should subject any remaining providers to a longer or shorter deadline? The Commission seeks comment on an appropriate deadline that is consistent with the time and effort necessary to implement the standard, balanced against the public benefit that will result in rapid implementation of the standard. What, if any, are the benefits and drawbacks of a shorter deadline? What, if any, are the benefits and drawbacks of a longer deadline?

Robocall Mitigation Database

40. Robocall Mitigation Database Filing Obligation. In line with the requirement the Commission adopts in the Gateway Provider Order for gateway providers, it proposes to require all intermediate providers to submit a certification to the Robocall Mitigation Database describing their robocall mitigation practices and stating that they are adhering to those practices, regardless of whether they have fully implemented STIR/SHAKEN. The Commission notes that all intermediate providers previously were imported into the Robocall Mitigation Database from the rural call completion database's Intermediate Provider Registry. The Commission now proposes to have these imported intermediate providers affirmatively file in the Robocall Mitigation Database. The Commission also proposes to require voice service providers that have already filed a certification to submit a robocall mitigation plan to the extent they previously were not required to do so due to fully implementing STIR/SHAKEN.

41. The Commission proposes to conclude that certification, operating in conjunction with the previous rules and new robocall mitigation obligations it adopts in the Gateway Provider Order, would encourage compliance and facilitate enforcement efforts and industry cooperation to address problems. A number of commenters recommended this proposal. Similar to the Commission's findings for gateway providers above, the Commission does not anticipate that a filing requirement would be more costly for other providers than it is for voice service providers that already have an obligation to file in the Robocall Mitigation Database. Are there reasons that all intermediate providers should not be required to submit a certification? Do the remaining providers face additional costs as compared to providers already subject to this requirement under the Commission's existing rules and the rule it adopts in the Gateway Provider Order that the Commission should consider? Are there other possible filing obligations that the Commission should impose instead of the requirement to file a certification in the Robocall Mitigation Database?

42. The Commission also proposes that all intermediate providers submit the same information that voice service providers, and now gateway providers, are required to submit under the Commission's rules. Specifically, the Commission proposes that all intermediate providers must certify to the status of STIR/SHAKEN implementation and robocall mitigation on their networks; submit contact information for a person responsible for addressing robocall mitigation-related issues; and describe in detail their robocall mitigation practices. The Commission proposes that voice service providers that were not previously required to submit a robocall mitigation plan describe in detail their robocall mitigation practices. Should these providers be subject to the additional obligation that the Commission adopts for gateway providers in the Gateway Provider Order, i.e., should the Commission require all domestic providers to explain what steps they are taking to ensure that the immediate upstream provider is not using their network to transmit illegal calls? Is it useful for all remaining providers to include this information? Should the Commission modify the identifying information that all domestic providers must file (both providers with a current certification obligation and those without)? The Commission anticipates that the burden is limited if it does not adopt a requirement for how detailed this explanation must be. Are there any reasons the Commission should require a more detailed explanation of the steps a provider has taken to meet their robocall mitigation obligations? Again, the Commission anticipates the Commission and public will benefit from understanding how these providers choose to comply with this specific duty because compliance is critical to stopping the carrying or processing of illegal robocalls.

43. In line with the new rules applicable to gateway providers, the Commission proposes to delegate to the Wireline Competition Bureau the authority to specify the form and format of any submissions. The Commission further proposes that this would include whether providers with more than one role in the call path may either submit a separate certification and plan or amend their current certification and any plan and that providers amending their current plan to cover different roles in the call path explain the mitigation steps they undertake as one type of provider and what mitigation steps they undertake as a different type of provider, to the extent they are different.

44. The Commission also proposes to extend to all domestic providers the duty to update their certification within 10 business days of “any change in the information” submitted, ensuring that the information is kept up to date, in line with the existing and new requirements for voice service providers and gateway providers, respectively. Is another time period appropriate for some or all of the information the Commission requires? Should the Commission establish a materiality threshold for circumstances in which an update is necessary for remaining providers, and, if so, what threshold should it set? In the Gateway Provider FNPRM, 86 FR 59084 (Oct. 26, 2021), the Commission sought comment regarding whether it should require gateway providers to inform the Commission through an update to the Robocall Mitigation Database filing if the provider is subject to a Commission, law enforcement, or regulatory agency action, investigation, or inquiry due to its robocall mitigation plan being deemed insufficient or problematic, or due to suspected unlawful robocalling or spoofing activity. In the Gateway Provider Order, the Commission declines to adopt this proposal so that it may more broadly ask the question regarding all domestic providers. Thus, the Commission now seeks comment on this proposal for all domestic providers.

45. Compliance Deadline. The Commission also seeks comment on an appropriate deadline for all domestic providers to submit a certification and mitigation plan to the Robocall Mitigation Database attesting to compliance with the proposed “reasonable steps” standard. Is 30 days following publication in the Federal Register of notice of approval by OMB of any associated Paperwork Reduction Act (PRA) obligations sufficient, as many intermediate providers are already required to mitigate call traffic? What are the benefits and drawbacks of a longer deadline? The Commission seeks comment on an appropriate deadline that is consistent with the time and effort necessary to implement this requirement, balanced against the public benefit that will result in rapid implementation of the requirement. If the Commission adopts an earlier deadline than the requirement to implement STIR/SHAKEN, should it require that, if a provider has not yet implemented STIR/SHAKEN at that time, the provider must file its certification by the deadline and indicate that it has not yet fully implemented STIR/SHAKEN and that it then update the filing within 10 business days of STIR/SHAKEN implementation, in line with its existing rule for updating such a filing? Are there any other filing deadline issues the Commission should consider? The Commission seeks comment on any modifications it should make to the filing process for these remaining providers.

46. Additional Identifying Information. While the Commission sought comment in the Gateway Provider FNPRM on whether all Robocall Mitigation Database filers should submit additional identifying information, the Commission does not act on this issue in the accompanying Gateway Provider Order so that it may both develop a more fulsome record at the same time it considers imposing other obligations on all domestic providers, including the obligation for all intermediate providers to file a certification in the Robocall Mitigation Database. The Commission thus seeks further comment on requiring all filers to include additional identifying information. While the Commission sought comment in the Gateway Provider FNPRM on including information such as a Carrier Identification Code, Operating Company Number, and/or Access Customer Name Abbreviation, is this information still relevant given that the September 2021 blocking deadline has now passed? Is there other additional information the Commission should require? For example, the Commission proposes to require filers to add information regarding principals, known affiliates, subsidiaries, and parent companies. The Commission seeks comment on this proposal. Will such information help identify bad actors and further the Commission's enforcement efforts, such as by identifying bad actors previously removed from the Robocall Mitigation Database that continue to be affiliated with other entities filing in the Robocall Mitigation Database? Will such information ease and enhance compliance by facilitating searches within the Robocall Mitigation Database and cross-checking information within the Robocall Mitigation Database against other sources? If the Commission requires all domestic providers to submit additional identifying information, how long should providers already in the database have to update information, or should such a requirement be applied on a prospective-only basis? Does the benefit of additional information outweigh the burden of asking a high number of providers to refile? What are the benefits of a prospective-only approach? Would this approach still be beneficial if only some filers submitted this information? Are there any categories of filer, such as foreign voice service providers that use NANP resources that pertain to the United States in the caller ID field, that are unlikely to have this identifying information? If so, how should any new requirements address these filers? Should the Commission require providers to submit information demonstrating that they are foreign or domestic, and should the Commission modify its provider definitions to address this issue? Alternatively, should the Commission consider making the submission of this additional information voluntary to avoid a refiling requirement and account for filers that do not possess the information? Or would submission on a voluntary basis provide little benefit? If the Commission requires submission of additional information by some or all filers, what deadline for filing should it set?

47. The Commission also seeks comment on any potential changes it should make to the Robocall Mitigation Database to make the filing process easier for providers and to facilitate searches by the Commission. For example, should the Commission allow providers who indicate they are “fully compliant with STIR/SHAKEN” to still submit additional information regarding their compliance (e.g., if they obtained their own token or if they are relying on another arrangement)? Should the database allow for any other explanations or voluntary information submissions? What other changes to the database or filing process would make compliance easier or more efficient for providers? If revising a filing is burdensome, what steps can the Commission take to reduce that burden? Is the burden of requiring revisions outweighed by the benefits to be obtained from the additional information?

48. Specific Areas to Be Described in Robocall Mitigation Plan. The Commission seeks comment on whether a robocall mitigation program should be considered sufficient if it only “includes detailed practices that can reasonably be expected to significantly reduce the origination of illegal robocalls. Does this requirement need to be further articulated? The Commission seeks comment on specific areas or topics to be described in the mitigation plan submitted to the Robocall Mitigation Database. What, if any, specific types of mitigation must be described in plans submitted to the database? For example, should providers be required to “describe with particularity” in their robocall mitigation plans the processes providers follow “to know the identities of the upstream service providers they accept traffic from and to monitor those service providers for illegal robocall traffic”? That is, should the Commission require all domestic providers to describe their “know-your-upstream provider” processes? Should providers indicate whether they use analytics providers and/or describe the analytics they use? Should all domestic providers describe any contractual requirements for upstream providers? Should all domestic providers include “the process and the actions” they take when they “become aware of it, including when alerted of such traffic by the Commission or the traceback consortium” regarding illegal traffic on their network, as suggested by USTelecom? Would taking any or all of these actions better protect U.S. consumers from illegal robocalls?

49. Certifications and Data from Intermediate Providers Previously Imported into the Robocall Mitigation Database. The Commission proposes to delegate decisions regarding the certifications and data of intermediate providers previously imported into the Robocall Mitigation Database to the Wireline Competition Bureau, as the Commission does for gateway providers that were previously imported into the database as intermediate providers in the accompanying Gateway Provider Order. If the Commission takes this approach, should it provide any additional guidance to the Wireline Competition Bureau and what would such additional guidance look like? Some commenters indicate that intermediate providers previously imported into the Robocall Mitigation Database should only have to “supplement their [Robocall Mitigation Database] entry by submitting a mitigation plan without having to completely refile,” while others assert that intermediate providers' imported data should be deleted from the database. Should the Commission instead adopt one of these proposals and direct the Wireline Competition Bureau to remove or update these imported certifications and data from the database? What are the benefits and burdens of allowing these providers to update their data versus having them completely refile?

50. Intermediate Provider Blocking Obligation. The Commission proposes to require downstream providers to block traffic received directly from all intermediate providers that are not listed and have not affirmatively filed a certification in the Robocall Mitigation Database or have been removed through enforcement action. Doing so will close a loophole in the Commission's rules by ensuring that any provider's traffic will be blocked if its certification does not appear in the Robocall Mitigation Database. It will also obviate any concerns regarding how downstream providers can determine if an upstream provider is a voice service provider, gateway provider, or other domestic intermediate provider. There was record support for this approach, which will equalize treatment of all domestic providers. The Commission seeks comment on doing so. What, if any, are the unique costs and benefits to applying this rule to domestic intermediate providers' traffic? Are there any modifications the Commission should make when applying this rule to intermediate providers other than gateway providers? In the Order, the Commission requires downstream providers to block traffic from an immediate upstream provider where the upstream provider had not affirmatively filed in the Robocall Mitigation Database and they had a reasonable basis to believe that the immediate upstream provider was either a voice service provider or a gateway provider for some calls. The Commission proposes to eliminate this requirement as moot if it adopts the proposed requirement for downstream providers to block traffic from domestic intermediate providers that have not affirmatively filed in the Robocall Mitigation Database; downstream providers will no longer need to determine the upstream provider type before making a blocking determination. The Commission seeks comment on this approach.

51. The Commission proposes that downstream providers be required to block traffic from non-gateway intermediate providers that have not submitted a certification in the Robocall Mitigation Database 90 days following the deadline for intermediate providers to file a certification. This proposed deadline is consistent with both the rule the Commission adopted in the accompanying Gateway Provider Order and the rule for voice service providers. The Commission seeks comment on this proposal and whether an alternative deadline is appropriate.

Enforcement

52. The Commission's rules are only as effective as its enforcement. To that end, the Commission proposes to: (1) impose forfeitures for failures to block calls on a per-call basis and establish a maximum forfeiture amount for such violations; (2) impose the highest available forfeiture for failures to appropriately certify in the Robocall Mitigation Database; (3) establish additional bases for removal from the Robocall Mitigation Database, including by establishing a “red light” feature to notify the Commission when a newly-filed certification lists a known bad actor as a principal, parent company, subsidiary, or affiliate; and (4) subject repeat offenders to proceedings to revoke their section 214 operating authority and to ban offending companies and/or their individual company owners, directors, officers, and principals from future significant association with entities regulated by the Commission.

53. Failure to Block Calls. Mandatory blocking is an important tool for protecting American consumers from illegal robocalls. Penalties for failure to comply with the Commission's existing or newly adopted mandatory blocking requirements must be sufficient to ensure that entities subject to its mandatory blocking requirements suffer a demonstrable economic impact. Given that bad actors profit from illegal robocalls, the Commission tentatively concludes that it should impose forfeitures for failure to block after Commission notice on a per-call basis. For example, if ABC Provider fails to block 100 calls, it will be subject to the maximum forfeiture amount for each of those 100 calls. The Commission seeks comment on this proposal. What are the pros and cons of the Commission's proposal? If adopted, should it be applicable to all domestic providers? Should the Commission exclude certain types of mandatory blocking from this approach? For example, should the Commission take a different approach for blocking based on a reasonable do-not-originate (DNO) list? Is there any reason why this last approach would be impracticable or unreasonable?

54. The Commission proposes to authorize that forfeitures for violations of its mandatory blocking rules be imposed on a per-call basis, with a maximum forfeiture amount for each violation of the proposed mandatory blocking requirements of $22,021 per violation. This is the maximum forfeiture amount the Commission's rules permit it to impose on non-common carriers. While common carriers may be assessed a maximum forfeiture of $220,213 for each violation, the Commission proposes to find that it should not impose a greater penalty on one class of providers than another for purposes of the mandatory blocking requirements. The Commission seeks comment on this proposal. Is there any reason to permit a higher maximum forfeiture for violation of the blocking requirements by providers that the Commission has determined to qualify as common carriers? Is one class of providers more likely than another to violate these rules? If so, is that a basis for imposing different forfeiture amounts? Are there particular aggravating or mitigating factors the Commission should take into consideration when determining the amount of a forfeiture penalty? Are the aggravating and mitigating factors set forth in the Commission's rules sufficient? Should failure to block calls to emergency services providers or public safety answering points (PSAPs) or to numbers on a reasonable DNO list constitute aggravating factors to be considered in calculating a forfeiture amount?

55. Provider Removal from the Robocall Mitigation Database. The Commission's voice service provider rules provide that if the Commission “finds a certification is deficient in some way, such as if the certification describes a robocall mitigation program that is ineffective” or “that a provider nonetheless knowingly or negligently originates illegal robocall campaigns,” the Commission “may take enforcement action as appropriate.” These enforcement actions may include, among others, removing a defective certification from the database after providing notice to the voice service provider and an opportunity to cure the filing. The Commission may, of course, impose a forfeiture in addition to removing the provider from the Robocall Mitigation Database. The Commission seeks comment on whether intermediate providers (other than gateway providers), in addition to voice service providers and gateway providers, should be subject to the removal of provider certifications from the Robocall Mitigation Database. Are there any other reasons the Commission should de-list or exclude providers from the Robocall Mitigation Database? The Commission proposes to expand its delegation of authority to the Enforcement Bureau codified in the Gateway Provider Order to de-list or exclude a provider from the Robocall Mitigation Database so that it applies to all providers. The Commission seeks comment on this proposal. Should the Commission automatically exclude providers or start an enforcement action for providers that look suspicious due to multiple traceback requests? Should the Commission automatically remove a provider from the database for its prior illegal or bad actions related to and/or unrelated to robocalling? Should the Commission automatically remove a provider from the database for bad actions by an affiliate provider related or unrelated to robocalling? What other provider actions would warrant removal from the Robocall Mitigation Database? Under the Commission's current rules, when a voice service provider is removed from the Robocall Mitigation Database, downstream providers must block that provider's traffic. Should the Commission deviate from this approach?

56. Continued violations. The Commission proposes to find that individuals and entities that engage in continued violations of its robocall mitigation rules raise substantial questions regarding their basic qualifications to engage in the provision of interstate common carrier services. The Commission thus proposes that such entities be subject to possible revocation of their section 214 operating authority, where applicable, and that any principals (either individuals or entities) of the bad actor entity be banned from serving, either directly or indirectly, as an attributable principal or as an officer or director in any entity that applies for or already holds any FCC license or instrument of authorization for the provision of a regulated service subject to Title II of the Communications Act of 1934 (the Act) or of any entity otherwise engaged in the provision of voice service for a period of time to be determined. For purposes of any such revocation, the Commission proposes to define “attributable principal” as: (1) in the case of a corporation, a party holding 5% or more of stock, whether voting or nonvoting, common or preferred; (2) in the case of a limited partnership, a limited partner whose interest is 5% or greater (as calculated according to the percentage of equity paid in or the percentage of distribution of profits and losses); (3) in the case of a general partnership, a general partner; and (4) in the case of a limited liability company, a member whose interest is 5% or greater. The Commission seeks comment on these proposals and on any alternative proposals or attribution criteria. For purposes of the definition of “attributable principal,” is 5% stock ownership or interest an appropriate threshold? For purposes of determining foreign ownership limits under section 310(b)(4) of the Act (regarding common carrier wireless licenses or media licenses), an applicant must disclose any individual foreign investor or group acquiring a greater than 5% voting or equity interest in the licensee. This reflects “the Commission's longstanding determination, in both the broadcast and common carrier contexts, that a shareholder with a less than five percent interest does not have the ability to influence or control core decisions of the licensee.” Would 10% stock ownership or interest or some lesser or higher threshold be more appropriate?

57. Many of the providers that would come within the purview of this proposed rule may not be classified as common carriers and thus may not operate subject to the blanket section 214 authority applicable to domestic interstate common carriers under § 63.01 of the Commission's rules. Interconnected VoIP providers are required to file applications to discontinue service under section 214 of the Act and § 63.71 of the Commission's rules. Providers not classified as common carriers may hold other Commission-issued authorizations or certifications. The Commission proposes to find that such carriers that have an international section 214 authorization, have applied for and received authorization for direct access to numbering resources, or are designated as eligible telecommunications carriers under section 214(e) of the Act in order to receive federal universal service support hold a Commission authorization sufficient to subject them to the Commission's jurisdiction for purposes of enforcing its rules pertaining to preventing illegal robocalls. Finally, The Commission proposes to find that providers not classified as common carriers registered in the Robocall Mitigation Database hold a Commission certification such that they are subject to the Commission's jurisdiction. The Commission seeks comment on these proposed findings and whether they serve as sufficient legal authority for the Commission to seek either revocation of an individual or entity's section 214 operating authority or to impose a ban on an individual or entity from operating in the telecommunications space as described above. Are there any other bases for jurisdiction or legal authority for the Commission to take such action?

Obligations for Providers Unable To Implement STIR/SHAKEN

58. The Commission seeks comment on whether additional clarity is needed regarding the Commission's rules applicable to certain providers lacking facilities necessary to implement STIR/SHAKEN. The Commission has previously clarified that the STIR/SHAKEN implementation requirement “do[es] not apply to providers that lack control of the network infrastructure necessary to implement STIR/SHAKEN.” The Commission notes that it accelerated the STIR/SHAKEN implementation deadline for another class of providers (i.e., non-facilities-based small voice service providers). A provider is non-facilities-based if it “offers voice service to end-users solely using connections that are not sold by the provider or its affiliates.” The Commission clarifies that some “non-facilities-based” small providers may also meet the definition of a provider that does not have control of the necessary infrastructure to implement STIR/SHAKEN. If so, that provider does not have a STIR/SHAKEN implementation obligation. The Small Provider Order, 87 FR 3684 (Jan. 25, 2022), did not expand or contract the universe of providers required to implement STIR/SHAKEN on the IP portions of their network; it only accelerated the implementation deadline for a subset of providers already subject to an implementation obligation. In the time since, however, the Commission has granted certain providers extensions, as well as established the Robocall Mitigation Database filing requirement. Should the Commission further clarify to whom the STIR/SHAKEN implementation requirement does not apply?

59. Given that providers must block traffic from originating providers not listed in the Robocall Mitigation Database, some providers, including resellers, have filed, irrespective of any obligation to do so. The Commission observes that the Robocall Mitigation Database portal does not prevent these providers from filing. To address this issue, should the Commission amend its rules to deem providers that lack control of the necessary infrastructure to implement STIR/SHAKEN as instead having a continuing extension? The Commission's rules require that voice service providers granted an extension perform robocall mitigation. Should the providers identified above be required to perform robocall mitigation, at least to the extent that they are able despite their lack of control over network infrastructure? If not, why not?

60. These providers may possess information about their customers that the underlying provider (in the case of resellers) may not be aware of or privy to. Should the Commission impose a know-your-customer obligation on these providers, even though they do not have an obligation to implement STIR/SHAKEN, or are its existing requirements outside of the STIR/SHAKEN context sufficient? Is the Commission's existing flexible approach sufficient, or should the Commission impose more specific requirements? Should such providers be required to communicate relevant information about their customers to underlying providers, and to what extent?

Satellite Providers

61. The Commission seeks comment on whether the TRACED Act applies to satellite providers, and, if so, whether it should grant such providers an extension for implementing STIR/SHAKEN. The Commission's rules, consistent with the TRACED Act, provide that a “voice service” is “any service that . . . furnishes voice communications to an end user using resources from the North American Numbering Plan.” The Satellite Industry Association (SIA) argues that the Commission's STIR/SHAKEN rules should not apply to satellite providers because their voice services do not satisfy the definition set out in its rules and in the TRACED Act. SIA asserts that their services “rely on non-NANP resources for their originating numbers” and that they use U.S. NANP resources only “to forward calls to a small satellite [provider] subscriber's non-NANP number, or direct assignment of NANP numbers to a very small subset of small satellite customers.” Does the Commission's authority under the TRACED Act extend to satellite providers that do not use NANP resources? Does the Commission's authority to require satellite providers to implement STIR/SHAKEN apply to all satellite providers regardless of the scope of the TRACED Act? What about to the extent any satellite providers use NANP numbers for the limited purposes described by SIA? Does use of NANP resources for forwarding calls to non-NANP numbers render that service a “voice service” within the TRACED Act's? Do a de minimis number of satellite provider subscribers use NANP resources only as SIA describes above, or are there ways these subscribers use NANP resources that SIA does not describe? Should there be a de minimis exception to the Commission's rules? If so, how should the Commission define de minimis for this purpose?

62. In addition to satellite providers' apparently limited use of U.S. NANP resources that SIA argues is generally outside the scope of the TRACED Act, SIA contends that requiring implementation of STIR/SHAKEN would pose an undue hardship due to unique economic and technological challenges the industry faces. Would requiring satellite providers, irrespective of their use of U.S. NANP resources, to implement STIR/SHAKEN pose an undue hardship? Is it technically feasible for satellite providers to implement STIR/SHAKEN? To what extent are satellite providers the source of illegal robocalls? Do they account for enough of the $13.5 billion cost to American consumers to outweigh the burden on them posed by having to implement STIR/SHAKEN? The Commission has previously provided small voice services providers, including satellite providers, an extension from STIR/SHAKEN implementation until June 30, 2023. When the Wireline Competition Bureau reevaluated this extension in 2021, it declined to grant a request from SIA for an indefinite extension and stated that it would seek further comment on SIA's request before the June 30, 2023 extension expires. The TRACED Act requires that the Commission, 12 months after the date of the TRACED Act's enactment, and thereafter “as appropriate,” assess burdens or barriers to implementation of STIR/SHAKEN. The TRACED Act further provides the Commission discretion to extend compliance with the implementation mandate “upon a public finding of undue hardship.” Not less than annually thereafter, the Commission must consider revising or extending any delay of compliance previously granted and issue a public notice regarding whether such delay of compliance remains necessary. The Commission directed the Wireline Competition Bureau to make these annual assessments and to reevaluate the Commission's granted extensions and revise or extend them as necessary. The Commission seeks comment on whether it should grant SIA's request for an indefinite extension for satellite providers. In the alternative, should satellite providers be granted a continuing extension? If so, how long should such an extension be?

Restrictions on Number Usage and Indirect Access

63. The Commission seeks comment on possible changes to its numbering rules to prevent the misuse of numbering resources to originate illegal robocalls, particularly calls originating abroad. In the Direct Access FNPRM, 86 FR 51081 (Sept. 14, 2021), the Commission sought comment placing limitations on interconnected VoIP providers' use of numbering resources obtained pursuant to direct access authorizations the Commission grants. The Commission now seeks comment on whether it should implement broader limitations in order to prevent illegal robocalls and whether other countries' regulations may provide a useful roadmap for its own.

64. Restrictions on Use of U.S. NANP Numbers for Foreign-Originated Calls. The Commission seeks comment on whether it should adopt restrictions on the use of domestic numbering resources for calls that originate outside of the United States for termination in the United States. The Commission notes that, according to providers and foreign regulators, other countries, such as Singapore and South Korea, have placed limitations on the use of domestic numbering resources for foreign-originated calls that terminate domestically. The Infocomm Media Development Authority of Singapore (IMDA) has required operators to add a “+” prefix to international incoming calls, and IMDA is working with operators to block known numbers with the new prefix used for scams, especially +65 (Singapore's country code). Australia has a similar rule. Should the Commission adopt a similar restriction? Should the Commission, as YouMail argues, establish a specific area code for foreign-originated calls? If so, should the Commission require providers block or otherwise restrict calls from all other area codes or place heightened due diligence or mitigation obligations on gateway providers receiving calls from such an area code? Is assignment of a valuable numbering resource—an area code—an efficient use of such resource? The Commission seeks comment on the approach taken in Germany, where if a call originating outside of Germany carries a German number, the number must not be displayed to a German end user unless the call is an international mobile roaming call. According to providers, Japan has similar restrictions. Would this or a similar mandated call-labelling approach be appropriate for some or all foreign-originated calls carrying U.S. numbers?

65. Should the Commission only impose restrictions in those cases where the call is not authenticated? For example, France requires that operators block calls with a French number in the caller ID from an operator outside of France unless the operator assigning, depositing, or receiving the number is able to guarantee the authenticity of the caller ID or the call is an international mobile roaming call of a French operator's end user. Under a similar approach, any calls carrying a U.S. NANP number that arrive in the United States with a STIR/SHAKEN authentication would not be automatically blocked. The Commission seeks comment on such an approach.

66. The Commission seeks comment on the effect that any of these restrictions or limitations would have on foreign call centers of U.S. corporations that make foreign-originated calls to U.S. customers. In particular, how do call centers operate when calling into countries that bar the foreign origination of calls into the domestic market carrying domestic caller ID information? The Commission seeks comment on the burden that these restrictions may have on providers and other entities such as call centers as well as the benefit that would result from bright-line restrictions on the use of U.S. NANP numbers for foreign-originated calls.

67. Indirect Access Restrictions. The Commission seeks comment on whether it should impose any restrictions on indirect access to U.S. NANP numbers to prevent their use by foreign or domestic robocallers. In the Direct Access FNPRM, the Commission sought comment on steps it could take to ensure that VoIP providers obtaining direct access to numbers did not use those numbers to facilitate illegal robocalls. It also asked whether the Commission should require applicants for direct access to numbers to certify that the numbers they apply for will only be used to provide interconnected VoIP services and whether interconnected VoIP providers that receive direct access to numbers must use those numbers for interconnected VoIP services. Some commenters in that proceeding noted that indirect access is common and that unscrupulous providers may be doing so for nefarious purposes, including illegal robocalling. The Commission notes that some illegal robocallers do not spoof numbers but instead obtain numbers from providers that themselves either obtained the number directly from the North American Numbering Plan Administrator (NANPA) or from another provider.

68. While the Commission does not prejudge the outcome of the Direct Access FNPRM, it seeks comment here on a broader bar on indirect access. Should the Commission adopt any restrictions on indirect access to numbers by interconnected VoIP providers and carriers or specifically for use in foreign-originated calls to reduce the ability of robocallers to do so? If so, what should those restrictions be? Should they be modeled after limitations other countries have put in place? The Commission notes that some countries limit the number of times a number can be transferred after it is obtained directly from the numbering administrator or completely bar number sub-assignment (indirect access). Would a similar rule be appropriate here? Does a less restrictive approach make sense? For example, in Portugal, further sub-assignment is permitted, but only if the provider that obtained the initial sub-assignment has allocated 60% of the numbers received to its end users. Instead of or in addition to limiting indirect access, could the Commission hold providers that obtain numbers directly from NANPA strictly liable for illegal robocalling undertaken by any entity that obtains the number through indirect access? Would such an approach be enforceable and, if so, how would the Commission enforce it? Does direct access to numbers by VoIP providers reduce or eliminate the need for numbers to be readily available through indirect access? Should the Commission, on its own or in concert with NANPA, instead establish a system for tracking the number of times that a number has been transferred via indirect access, to whom, and who has the right to use a number at a particular time? The Commission seeks comment on the costs and administrative hurdles of establishing such a system, as well as the benefits and burdens. Could such a tracking system also assist in the enforcement of the Commission's robocall rules generally? For example, like STIR/SHAKEN, it would allow a downstream provider to determine whether the originating party (or at least the upstream provider) was authorized to use a number. How could providers use that information, particularly in concert with STIR/SHAKEN data?

STIR/SHAKEN by Third Parties

69. The Commission seeks comment on whether certain of its rules regarding caller ID authentication and attestation in the Robocall Mitigation Database require clarification. The Commission's rules require that a voice service provider “[a]uthenticate caller identification information for all SIP calls it originates and . . . transmit that call with authenticated caller identification information to the next voice service provider or intermediate provider in the call path.” TransNexus asserts that some originating providers have had underlying (in the case of resellers) or downstream providers authenticate calls on the originating provider's behalf. Should the Commission allow a third party to authenticate caller identification information to satisfy the originating provider's obligation? Conversely, should the Commission amend its rules regarding filing in the Robocall Mitigation Database to require attestation of STIR/SHAKEN implementation by the originating provider itself—i.e., require all domestic providers to have their own token from the STI-GA for purposes of authentication? As to both questions, why or why not? Is third-party authentication proper in certain circumstances but improper in others? Is third-party authentication consistent with the standards underlying the STIR/SHAKEN framework? And does authentication by someone other than the originating provider undercut STIR/SHAKEN? The Commission seeks comment on whether the Commission needs to amend its current rules in order to account for this practice, whether to prohibit or allow it.

Differential Treatment of Conversational Traffic

70. The Commission seeks comment on stakeholders' argument that certain traffic is unlikely to carry illegal robocalls and thus should be treated differently under its rules from other voice traffic. Specifically, the Commission seeks comment on whether cellular roaming traffic (i.e., traffic originated abroad from U.S. mobile subscribers carrying U.S. NANP numbers terminated in the U.S.) should be treated with a lighter touch. The Commission does not adopt a rule in the Gateway Provider Order regarding this traffic because the record is not sufficiently developed on this point. Are these commenters' concerns valid? Is cellular roaming traffic unlikely to carry illegal robocalls? What percentage of cellular roaming traffic is signed? What percentage of unsigned cellular roaming traffic consists of illegal calls? If the Commission treats cellular roaming differently, could robocallers disguise traffic as cellular roaming traffic in order to take advantage of any “lighter touch” regulatory regime the Commission adopts? Is it technically feasible for the gateway provider or downstream providers to clearly identify legitimate cellular roaming traffic for compliance purposes? Several commenters suggest that they are able to do so, but is that true for all domestic providers in the call path and is it realistic for them to do so? For example, ZipDX implies that roaming traffic would need to be placed on separate trunks for it to be practically subject to a different set of rules from other traffic and that segregation currently does not occur in all cases. The Commission seeks comment on this assertion and cellular roaming routing practices in general. Should the Commission modify its rules applicable to some or all domestic providers to take these differences in traffic into account? What, if any, regulatory carve-outs for the Commission's robocalling rules would be appropriate for any traffic that falls within this category? What would be the costs of distinguishing legitimate roaming traffic from illegal robocalls subject to the Commission's robocall protection requirements? Should the Commission treat calls originated from domestic cellular customers carrying U.S. NANP numbers with a similarly light touch? Are there other categories of traffic that should be subject to greater or lesser scrutiny than other voice traffic under the Commission's rules? If so, what are those categories of traffic and what rules should apply?

Legal Authority

71. The Commission proposes to adopt any of the foregoing obligations largely pursuant to the legal authority it relied upon in prior caller ID authentication and call blocking orders, including authority it relied upon in the accompanying Gateway Provider Order. The Commission seeks comment on this approach.

72. Caller ID Authentication. Gateway providers are a subset of intermediate providers. In the Gateway Provider Order, the Commission relies upon 251(e) of the Act and the Truth in Caller ID Act to require gateway providers to authenticate unauthenticated calls. In the Second Caller ID Authentication Report and Order, the Commission relied on this authority when requiring intermediate providers to either authenticate unauthenticated calls or cooperate with the industry traceback consortium and respond to traceback requests. The Commission therefore proposes to rely upon the same authority to require all intermediate providers to authenticate unauthenticated calls. The Commission seeks comment on this approach; is there any reason it may not rely on the same authority here? The Commission also seeks comment on whether there are alternative sources of authority it should rely on.

73. Robocall Mitigation and Call Blocking. In adopting the Commission's robocall mitigation and call blocking rules for gateway providers in the accompanying Gateway Provider Order, the Commission relied upon sections 201(b), 202(a), 251(e); the Truth in Caller ID Act; and its ancillary authority. The Commission proposes to rely on this same authority in adopting additional robocall mitigation and call blocking requirements for all domestic providers, as described above. The Commission seeks comment on this approach and whether there are other sources of authority it should consider.

74. The Commission seeks specific comment on its ancillary authority. The Commission anticipates that the proposed regulations applicable to all domestic providers are “reasonably ancillary to the Commission's effective performance of its . . . responsibilities.” Providers not classified as common carriers interconnect with the public switched telephone network and exchange IP traffic, which clearly constitutes “communication by wire and radio.” The Commission believes that requiring these providers to comply with its proposed rules is reasonably ancillary to the Commission's effective performance of its statutory responsibilities under sections 201(b), 202(a), 251(e), and the Truth in Caller ID Act as described above. With respect to sections 201(b) and 202(a), absent application of the Commission's proposed rules to providers not classified as common carriers, originators of robocalls could circumvent the Commission's proposed regulatory scheme by sending calls only to providers not classified as common carriers to reach their destination. The Commission seeks comment on this analysis and any other basis of its ancillary authority here.

75. Enforcement. The Commission also proposes to adopt its additional enforcement rules above pursuant to sections 501, 502, and 503 of the Act. These provisions allow the Commission to take enforcement action against common carriers as well as providers not classified as common carriers following a citation. The Commission also proposes to rely on the existing authority in § 1.80 of its rules regarding forfeiture amounts. The Commission seeks comment on this proposed authority and any other sources of its enforcement authority.

76. Numbering Restrictions. To adopt any of the foregoing numbering restrictions, the Commission proposes to rely on section 251(e) and its grant to the Commission of authority over numbering resources as well as sections 201 and 251(b). The Commission has repeatedly relied on these sections in adopting its numbering rules. The Commission also proposes to rely on its ancillary authority. The Commission believes that placing restrictions on numbering access for providers not classified as common carriers would be reasonably ancillary to the Commissions' performance under these three sections. Access to numbers is necessary to ensure a level playing field and foster competition by eliminating barriers to, and incenting development of, innovative IP services. The Commission thus proposes to conclude that, for these or other reasons, imposing numbering restrictions on providers not classified as common carriers is reasonably ancillary to the Commission's responsibilities to ensure that numbers are made available on an “equitable” basis, to advance the number-portability requirements of section 251(b), or to help ensure just and reasonable rates and practices for telecommunications services regulated under section 201. The Commission also seeks comment on other possible bases for the Commission to exercise ancillary authority here.

Digital Equity and Inclusion

77. The Commission, as part of its continuing effort to advance digital equity for all, including people of color and others who have been historically underserved, marginalized, and adversely affected by persistent poverty and inequality, invites comment on any equity-related considerations and benefits (if any) that may be associated with the proposals and issues discussed herein. The Commission defines the term “equity” consistent with Executive Order 13985 as the consistent and systematic fair, just, and impartial treatment of all individuals, including individuals who belong to underserved communities that have been denied such treatment, such as Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality. Specifically, the Commission seeks comment on how its proposals may promote or inhibit advances in diversity, equity, inclusion, and accessibility.

78. Initial Regulatory Flexibility Analysis as required by the Regulatory Flexibility Act of 1980, as amended (RFA), the Commission has prepared this Initial Regulatory Flexibility Analysis (IRFA) of the possible significant economic impact on small entities by the policies and rules proposed in this FNPRM. The Commission requests written public comments on this IRFA. Comments must be identified as responses to the IRFA and must be filed by the deadlines for comments provided in the DATES section of the FNPRM. The Commission will send a copy of the FNPRM, including this IRFA, to the Chief Counsel for Advocacy of the Small Business Administration (SBA). In addition, the FNPRM and IRFA (or summaries thereof) will be published in the Federal Register.

Need for, and Objectives of, the Proposed Rules

79. In order to continue the Commission's work of protecting American consumers from illegal calls, regardless of their provenance, the FNPRM proposes to expand some of the Commission's existing rules to cover other providers in the call path and provides additional options to further protect American consumers, regardless of whether illegal calls originate domestically or abroad. Specifically, the FNPRM proposes to extend the Commission's STIR/SHAKEN authentication requirement to cover all domestic providers in the call path. The FNPRM also seeks comment on extending some of the robocall mitigation duties the Commission adopts in the Gateway Provider Order to all domestic providers in the call path. These mitigation duties include: expanding and modifying the Commission's existing affirmative obligations; requiring downstream providers to block calls from non-gateway providers when those providers fail to comply; the general mitigation standard; and filing a mitigation plan in the Robocall Mitigation Database regardless of STIR/SHAKEN implementation status. The FNPRM also seeks comment on additional measures to address illegal robocalls, including: ways to enhance the enforcement of the Commission's rules; clarifying certain aspects of its STIR/SHAKEN regime; placing limitations on the use of U.S. NANP numbers for foreign-originated calls and indirect number access, and treating cellular roaming traffic differently.

Legal Basis

80. The FNPRM proposes to find authority largely under those provisions through which it has previously adopted rules to stem the tide of robocalls. Specifically, the FNPRM proposes to find authority under sections 201(b), 202(a), 251(b) and (e), 501, 502, and 503 of the Act, § 1.80 of the Commission's rules regarding forfeiture amounts, the Truth in Caller ID Act, and, where appropriate, ancillary authority. The FNPRM solicits comment on these proposals.

Description and Estimate of the Number of Small Entities to Which the Proposed Rules Will Apply

81. The RFA directs agencies to provide a description of and, where feasible, an estimate of the number of small entities that may be affected by the proposed rules and by the rule revisions on which the FNPRM seeks comment, if adopted. The RFA generally defines the term “small entity” as having the same meaning as the terms “small business,” “small organization,” and “small governmental jurisdiction.” In addition, the term “small business” has the same meaning as the term “small-business concern” under the Small Business Act. A “small-business concern” is one which: (1) is independently owned and operated; (2) is not dominant in its field of operation; and (3) satisfies any additional criteria established by the SBA.

82. Small Businesses, Small Organizations, Small Governmental Jurisdictions. The Commission's actions, over time, may affect small entities that are not easily categorized at present. The Commission therefore describes here, at the outset, three broad groups of small entities that could be directly affected herein. First, while there are industry specific size standards for small businesses that are used in the regulatory flexibility analysis, according to data from the Small Business Administration's (SBA) Office of Advocacy, in general a small business is an independent business having fewer than 500 employees. These types of small businesses represent 99.9% of all businesses in the United States, which translates to 32.5 million businesses.

83. Next, the type of small entity described as a “small organization” is generally “any not-for-profit enterprise which is independently owned and operated and is not dominant in its field.” The Internal Revenue Service (IRS) uses a revenue benchmark of $50,000 or less to delineate its annual electronic filing requirements for small exempt organizations. Nationwide, for tax year 2020, there were approximately 447,689 small exempt organizations in the U.S. reporting revenues of $50,000 or less according to the registration and tax data for exempt organizations available from the IRS.

84. Finally, the small entity described as a “small governmental jurisdiction” is defined generally as “governments of cities, counties, towns, townships, villages, school districts, or special districts, with a population of less than fifty thousand.” U.S. Census Bureau data from the 2017 Census of Governments indicate that there were 90,075 local governmental jurisdictions consisting of general purpose governments and special purpose governments in the United States. Of this number there were 36,931 general purpose governments (county, municipal and town or township) with populations of less than 50,000 and 12,040 special purpose governments—independent school districts with enrollment populations of less than 50,000. Accordingly, based on the 2017 U.S. Census of Governments data, the Commission estimates that at least 48,971 entities fall into the category of “small governmental jurisdictions.”

Wireline Carriers

85. Wired Telecommunications Carriers. The U.S. Census Bureau defines this industry as establishments primarily engaged in operating and/or providing access to transmission facilities and infrastructure that they own and/or lease for the transmission of voice, data, text, sound, and video using wired communications networks. Transmission facilities may be based on a single technology or a combination of technologies. Establishments in this industry use the wired telecommunications network facilities that they operate to provide a variety of services, such as wired telephony services, including VoIP services, wired (cable) audio and video programming distribution, and wired broadband internet services. By exception, establishments providing satellite television distribution services using facilities and infrastructure that they operate are included in this industry. Wired Telecommunications Carriers are also referred to as wireline carriers or fixed local service providers.

86. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 5,183 providers that reported they were engaged in the provision of fixed local services. Of these providers, the Commission estimates that 4,737 providers have 1,500 or fewer employees. Consequently, using the SBA's small business size standard, most of these providers can be considered small entities

87. Local Exchange Carriers (LECs). Neither the Commission nor the SBA has developed a size standard for small businesses specifically applicable to local exchange services. Providers of these services include both incumbent and competitive local exchange service providers. Wired Telecommunications Carriers is the closest industry with an SBA small business size standard. Wired Telecommunications Carriers are also referred to as wireline carriers or fixed local service providers. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 5,183 providers that reported they were fixed local exchange service providers. Of these providers, the Commission estimates that 4,737 providers have 1,500 or fewer employees. Consequently, using the SBA's small business size standard, most of these providers can be considered small entities.

88. Incumbent Local Exchange Carriers (Incumbent LECs). Neither the Commission nor the SBA have developed a small business size standard specifically for incumbent local exchange carriers. Wired Telecommunications Carriers is the closest industry with an SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2021 Universal Service Monitoring Report, as of December 31, 2020, there were 1,227 providers that reported they were incumbent local exchange service providers. Of these providers, the Commission estimates that 929 providers have 1,500 or fewer employees. Consequently, using the SBA's small business size standard, the Commission estimates that the majority of incumbent local exchange carriers can be considered small entities.

89. Competitive Local Exchange Carriers (Competitive LECs). Neither the Commission nor the SBA has developed a size standard for small businesses specifically applicable to local exchange services. Providers of these services include several types of competitive local exchange service providers. Wired Telecommunications Carriers is the closest industry with an SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 3,956 providers that reported they were competitive local exchange service providers. Of these providers, the Commission estimates that 3,808 providers have 1,500 or fewer employees. Consequently, using the SBA's small business size standard, most of these providers can be considered small entities.

90. The Commission has included small incumbent LECs in this present RFA analysis. As noted above, a “small business” under the RFA is one that, inter alia, meets the pertinent small-business size standard (e.g., a telephone communications business having 1,500 or fewer employees) and “is not dominant in its field of operation.” The SBA's Office of Advocacy contends that, for RFA purposes, small incumbent LECs are not dominant in their field of operation because any such dominance is not “national” in scope. The Commission has therefore included small incumbent LECs in this RFA analysis, although it emphasizes that this RFA action has no effect on Commission analyses and determinations in other, non-RFA contexts.

91. Interexchange Carriers (IXCs). Neither the Commission nor the SBA have developed a small business size standard specifically for Interexchange Carriers. Wired Telecommunications Carriers is the closest industry with an SBA small business size standard. The SBA small business size standard for Wired Telecommunications Carriers classifies firms having 1,500 or fewer employees as small. U.S. Census Bureau data for 2017 show that there were 3,054 firms that operated in this industry for the entire year. Of this number, 2,964 firms operated with fewer than 250 employees. Additionally, based on Commission data in the 2021 Universal Service Monitoring Report, as of December 31, 2020, there were 151 providers that reported they were engaged in the provision of interexchange services. Of these providers, the Commission estimates that 131 providers have 1,500 or fewer employees. Consequently, using the SBA's small business size standard, the Commission estimates that the majority of providers in this industry can be considered small entities.

92. Cable System Operators (Telecom Act Standard). The Communications Act of 1934, as amended, contains a size standard for small cable system operators, which classifies “a cable operator that, directly or through an affiliate, serves in the aggregate fewer than one percent of all subscribers in the United States and is not affiliated with any entity or entities whose gross annual revenues in the aggregate exceed $250,000,000,” as small. As of December 2020, there were approximately 45,308,192 basic cable video subscribers in the top Cable multiple system operators (MSOs) in the United States. Accordingly, an operator serving fewer than 453,082 subscribers shall be deemed a small operator if its annual revenues, when combined with the total annual revenues of all its affiliates, do not exceed $250 million in the aggregate. Based on available data, all but five of the cable operators in the Top Cable MSOs have less than 453,082 subscribers and can be considered small entities under this size standard. The Commission notes however, that the Commission neither requests nor collects information on whether cable system operators are affiliated with entities whose gross annual revenues exceed $250 million. Therefore, the Commission is unable at this time to estimate with greater precision the number of cable system operators that would qualify as small cable operators under the definition in the Communications Act.

93. Other Toll Carriers. Neither the Commission nor the SBA has developed a definition for small businesses specifically applicable to Other Toll Carriers. This category includes toll carriers that do not fall within the categories of interexchange carriers, operator service providers, prepaid calling card providers, satellite service carriers, or toll resellers. Wired Telecommunications Carriers is the closest industry with an SBA small business size standard. The SBA small business size standard for Wired Telecommunications Carriers classifies firms having 1,500 or fewer employees as small. U.S. Census Bureau data for 2017 show that there were 3,054 firms in this industry that operated for the entire year. Of this number, 2,964 firms operated with fewer than 250 employees. Additionally, based on Commission data in the 2021 Universal Service Monitoring Report, as of December 31, 2020, there were 115 providers that reported they were engaged in the provision of other toll services. Of these providers, the Commission estimates that 113 providers have 1,500 or fewer employees. Consequently, using the SBA's small business size standard, most of these providers can be considered small entities.

Wireless Carriers

94. Wireless Telecommunications Carriers (except Satellite). This industry comprises establishments engaged in operating and maintaining switching and transmission facilities to provide communications via the airwaves. Establishments in this industry have spectrum licenses and provide services using that spectrum, such as cellular services, paging services, wireless internet access, and wireless video services. The SBA size standard for this industry classifies a business as small if it has 1,500 or fewer employees. U.S. Census Bureau data for 2017 show that there were 2,893 firms in this industry that operated for the entire year. Of that number, 2,837 firms employed fewer than 250 employees. Additionally, based on Commission data in the 2021 Universal Service Monitoring Report, as of December 31, 2020, there were 797 providers that reported they were engaged in the provision of wireless services. Of these providers, the Commission estimates that 715 providers have 1,500 or fewer employees. Consequently, using the SBA's small business size standard, most of these providers can be considered small entities.

95. Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $35 million or less in annual receipts as small. U.S. Census Bureau data for 2017 show that 275 firms in this industry operated for the entire year. Of this number, 242 firms had revenue of less than $25 million. Additionally, based on Commission data in the 2021 Universal Service Monitoring Report, as of December 31, 2020, there were 71 providers that reported they were engaged in the provision of satellite telecommunications services. Of these providers, the Commission estimates that approximately 48 providers have 1,500 or fewer employees. Consequently, using the SBA's small business size standard, a little more than of these providers can be considered small entities.

Resellers

96. Local Resellers. Neither the Commission nor the SBA have developed a small business size standard specifically for Local Resellers. Telecommunications Resellers is the closest industry with an SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2021 Universal Service Monitoring Report, as of December 31, 2020, there were 293 providers that reported they were engaged in the provision of local resale services. Of these providers, the Commission estimates that 289 providers have 1,500 or fewer employees. Consequently, using the SBA's small business size standard, most of these providers can be considered small entities.

97. Toll Resellers. Neither the Commission nor the SBA have developed a small business size standard specifically for Toll Resellers. Telecommunications Resellers is the closest industry with an SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2021 Universal Service Monitoring Report, as of December 31, 2020, there were 518 providers that reported they were engaged in the provision of toll services. Of these providers, the Commission estimates that 495 providers have 1,500 or fewer employees. Consequently, using the SBA's small business size standard, most of these providers can be considered small entities.

98. Prepaid Calling Card Providers. Neither the Commission nor the SBA has developed a small business size standard specifically for prepaid calling card providers. Telecommunications Resellers is the closest industry with an SBA small business size standard. The Telecommunications Resellers industry comprises establishments engaged in purchasing access and network capacity from owners and operators of telecommunications networks and reselling wired and wireless telecommunications services (except satellite) to businesses and households. Establishments in this industry resell telecommunications; they do not operate transmission facilities and infrastructure. Mobile virtual network operators (MVNOs) are included in this industry. The SBA small business size standard for Telecommunications Resellers classifies a business as small if it has 1,500 or fewer employees. U.S. Census Bureau data for 2017 show that 1,386 firms in this industry provided resale services for the entire year. Of that number, 1,375 firms operated with fewer than 250 employees. Additionally, based on Commission data in the 2021 Universal Service Monitoring Report, as of December 31, 2020, there were 58 providers that reported they were engaged in the provision of payphone services. Of these providers, the Commission estimates that 57 providers have 1,500 or fewer employees. Consequently, using the SBA's small business size standard, most of these providers can be considered small entities.

Other Entities

99. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up internet service providers (ISPs)) or voice over internet protocol (VoIP) services, via client-supplied telecommunications connections are also included in this industry. The SBA small business size standard for this industry classifies firms with annual receipts of $35 million or less as small. U.S. Census Bureau data for 2017 show that there were 1,079 firms in this industry that operated for the entire year. Of those firms, 1,039 had revenue of less than $25 million. Based on this data, the Commission estimates that the majority of “All Other Telecommunications” firms can be considered small.

Description of Projected Reporting, Recordkeeping, and Other Compliance Requirements for Small Entities

100. The FNPRM proposes to impose several obligations on various providers, many of whom may be small entities. Specifically, the FNPRM proposes to require all U.S. intermediate providers to authenticate caller ID information consistent with STIR/SHAKEN for SIP calls that are carrying a U.S. number in the caller ID field and to require all providers to comply with the most recent version of the standards as they are released. The FNPRM also seeks comment on extending certain mitigation duties to all domestic providers, including: (1) extending the requirement to respond to traceback requests from the Commission, civil and criminal law enforcement, and the industry traceback consortium within 24 hours of receipt of the request to all U.S.-based providers in the call path; (2) requiring all domestic providers in the call path to block, rather than simply effectively mitigate, illegal traffic when notified of such traffic by the Commission; and (3) requiring the intermediate provider or terminating provider immediately downstream from an upstream provider that fails to block, or effectively mitigate if the Commission declines to extend the blocking requirement further, illegal traffic when notified by the Commission. It also seeks comment on whether and how to clarify the Commission's rule requiring providers to take affirmative, effective measures to prevent new and renewing customers from using their network to originate illegal calls. The FNPRM also proposes to extend a general mitigation standard to voice service providers that have implemented STIR/SHAKEN in the IP portions of their networks and to all domestic intermediate providers. The FNPRM also proposes to require all domestic intermediate providers to submit a certification to the Robocall Mitigation Database describing their robocall mitigation practices and stating that they are adhering to those practices, regardless of whether they have fully implemented STIR/SHAKEN.

101. With regard to the Commission's enforcement of these proposed rules, the FNPRM proposes to: (1) impose forfeitures for failures to block calls on a per-call basis and establish a maximum forfeiture amount for such violations; (2) impose the highest available forfeiture for failures to appropriately certify in the Robocall Mitigation Database; (3) establish additional bases for removal from the Robocall Mitigation Database, including by establishing a “red light” feature to notify the Commission when a newly-filed certification lists a known bad actor as a principal, parent company, subsidiary, or affiliate; and (4) subject repeat offenders to proceedings to revoke their section 214 operating authority and to ban offending companies and/or their individual company owners, directors, officers, and principals from future significant association with entities regulated by the Commission.

102. The FNPRM seeks comment on whether certain of the Commission's rules regarding caller ID authentication and attestation in the Robocall Mitigation Database require clarification, specifically whether the Commission should allow a third party to authenticate caller identification information to satisfy the originating provider's obligation, and whether the Commission's rules regarding filing in the Robocall Mitigation Database should be amended to require attestation of STIR/SHAKEN implementation by the originating provider itself. The FNPRM also seeks comment on whether additional clarity is needed regarding the Commission's rules about certain providers lacking facilities to implement STIR/SHAKEN.

103. The FNPRM also seeks comment on whether the TRACED Act applies to satellite providers, and, if so, whether the Commission should grant such providers an extension for implementing STIR/SHAKEN.

104. The FNPRM seeks comment on possible changes to the Commission's numbering rules to prevent the misuse of numbering resources to originate illegal robocalls, particularly those originating abroad, including: (1) whether the Commission should adopt restrictions on the use of domestic numbering resources for calls that originate outside of the United States for termination in the United States; and (2) whether the Commission should impose any restrictions on indirect access to U.S. NANP numbers to prevent their use by foreign or domestic robocallers.

105. Lastly, the FNPRM seeks comment on stakeholders' argument that cellular roaming traffic (i.e., traffic originated abroad from U.S. mobile subscribers carrying U.S. NANP numbers terminated in the U.S.) should be treated with a “lighter touch” because it is unlikely to carry illegal robocalls.

Steps Taken To Minimize the Significant Economic Impact on Small Entities, and Significant Alternatives Considered

106. The RFA requires an agency to describe any significant alternatives that it has considered in reaching its proposed approach, which may include the following four alternatives (among others): (1) the establishment of differing compliance or reporting requirements or timetables that take into account the resources available to small entities; (2) the clarification, consolidation, or simplification of compliance and reporting requirements under the rules for such small entities; (3) the use of performance rather than design standards; and (4) an exemption from coverage of the rule, or any part thereof, for such small entities.

107. The FNPRM seeks comment on the particular impacts that the proposed rules may have on small entities. In particular, it seeks comment on the impact on small providers of extending the requirement to respond to traceback requests from the Commission, civil and criminal law enforcement, and the industry traceback consortium within 24 hours of receipt of the request to all U.S.-based providers in the call path. The FNPRM recognizes that providers that do not receive many requests may be less familiar with the process, and that smaller providers in particular may struggle to respond quickly, and it seeks comment on whether the waiver process established in the Gateway Provider Order is sufficient to address the needs of all providers, or whether it should be modified to allow greater flexibility. In particular, the FNPRM seeks comment on whether the Commission should adopt an approach to traceback based on volume of requests received, rather than position in the call path or size of provider. For example, the FNPRM asks whether the Commission should adopt a tiered approach that requires providers with fewer than 10 traceback requests a month to respond “fully and timely,” without the need to maintain an average response time of 24 hours; requires providers that receive from 10 to 99 traceback requests a month to respond within 24 hours or request a waiver and maintain an average response time of 24 hours; and requires providers with 100 or more traceback requests a month to always respond within 24 hours, barring exceptional circumstances. The FNPRM also seeks comment on whether the TRACED Act applies to satellite providers and, if so, whether the Commission should grant such providers an extension for implementing STIR/SHAKEN. The FNPRM seeks comment on whether a de minimis number of satellite provider subscribers use NANP resources, and whether there should thus be a de minimis exception to the Commission's rules. The FNPRM notes that the Commission has previously provided small voice services providers, including satellite providers, an extension from STIR/SHAKEN implementation until June 30, 2023, and seeks comment on whether the Commission should grant an indefinite extension for satellite providers or, in the alternative, a defined continuing extension.

Federal Rules That May Duplicate, Overlap, or Conflict With the Proposed Rules

108. None.

Procedural Matters

109. Initial Regulatory Flexibility Analysis. As required by the RFA, the Commission has prepared an IRFA of the possible significant economic impact on small entities of the policies and rules addressed in this FNPRM. The IRFA is set forth above. Written public comments are requested on the IRFA. Comments must be filed by the deadlines for comments on the FNPRM indicated on the first page of this document and must have a separate and distinct heading designating them as responses to the IRFA. The Commission's Consumer and Governmental Affairs Bureau, Reference Information Center, will send a copy of this FNPRM, including the IRFA, to the Chief Counsel for Advocacy of the SBA.

110. Paperwork Reduction Act. The FNPRM contains proposed new and revised information collection requirements. The Commission, as part of its continuing effort to reduce paperwork burdens, invites the general public and OMB to comment on the information collection requirements contained in this document, as required by the Paperwork Reduction Act of 1995, Public Law 104-13. In addition, pursuant to the Small Business Paperwork Relief Act of 2002, Public Law 107-198, see 44 U.S.C 3506(c)(4), the Commission seeks specific comment on how it might further reduce the information collection burden for small business concerns with fewer than 25 employees.

111. Ex Parte Presentations—Permit-But-Disclose. The proceeding this FNPRM initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Ordering Clauses

112. Accordingly, it is ordered, pursuant to sections 4(i), 4(j), 201, 202, 217, 227, 227b, 251(b), 251(e), 303(r), 501, 502, and 503 of the Communications Act of 1934, as amended, 47 U.S.C. 154(i), 154(j), 201, 202, 217, 227, 227b, 251(b) 251(e), 303(r), 501, 502, and 503, this FNPRM is adopted.

113. It is further ordered that the Commission's Consumer and Governmental Affairs Bureau, Reference information Center, shall send a copy of this FNPRM, including the Initial Regulatory Flexibility Analysis (IRFA), to the Chief Counsel for Advocacy of the Small Business Administration.

List of Subjects

47 CFR Part 0

Authority delegations (Government agencies), Communications, Communications common carriers, Classified information, Freedom of information, Government publications, Infants and children, Organization and functions (Government agencies), Postal Service, Privacy, Reporting and recordkeeping requirements, Sunshine Act, Telecommunications.

47 CFR Part 1

Administrative practice and Procedure, Civil rights, Claims, Communications, Communications common carriers, Communications equipment, Cuba, Drug abuse, Environmental impact statements, Equal access to justice, Equal employment opportunity, Federal buildings and facilities, Government employees, Historic preservation, Income taxes, Indemnity payments, Individuals with disabilities, internet, Investigations, Lawyers, Metric system, Penalties, Radio, Reporting and recordkeeping requirements, Satellites, Security measures, Telecommunications, Telephone, Television, Wages.

47 CFR Part 64

Carrier equipment, Communications common carriers, Reporting and recordkeeping requirements, Telecommunications, Telephone.

Federal Communications Commission.
Marlene Dortch,
Secretary.

Proposed Rules

The Federal Communications Commission proposes to amend parts 0, 1, and 64 of title 47 of the Code of Federal Regulations as follows:

PART 0—COMMISSION ORGANIZATION

Subpart A—Organization

1. The authority citation for part 0, subpart A, continues to read as follows:

Authority: 47 U.S.C. 151, 154(i), 154(j), 155, 225, and 409, unless otherwise noted.

2. Amend § 0.111 by revising paragraph (a)(28) to read as follows:

§ 0.111 Functions of the Bureau.

(a) * * *

(28) Take enforcement action, including de-listing from the Robocall Mitigation Database, against any provider:

(i) Whose certification described in § 64.6305(c) through (e) of this chapter is deficient after giving that provider notice and an opportunity to cure the deficiency; or

(ii) Who accepts calls directly from a domestic voice service provider, domestic intermediate provider, gateway provider, or foreign provider not listed in the Robocall Mitigation Database in violation of § 64.6305(f) of this chapter.

* * * * *

PART 1—PRACTICE AND PROCEDURE

3. The authority citation for part 1 continues to read as follows:

Authority: 47 U.S.C. chs. 2, 5, 9, 13; 28 U.S.C. 2461 note, unless otherwise noted.

Subpart A—General Rules of Practice and Procedure

4. Amend § 1.80 by:

a. Redesignating paragraphs (b)(9) through (11) as paragraphs (b)(10) through (12);

b. Adding a new paragraph (b)(9);

c. In newly redesignated paragraph (b)(10), removing “paragraphs (b)(1) through (8) of this section” and adding “paragraphs (b)(1) through (9) of this section” in its place;

d. In newly redesignated paragraph (b)(11):

i. Redesignating tables 1 through 4 to paragraph (b)(10) as tables 1 through 4 to paragraph (b)(11);

ii. In footnote 1 of newly redesignated table 4 to paragraph (b)(11), removing “paragraph (b)(10)” and adding “paragraph (b)(11)” in its place;

iii. Redesignating note 2 to paragraph (b)(10) as note 2 to paragraph (b)(11); and

iv. In newly redesignated note 2 to paragraph (b)(11), removing “this paragraph (b)(10)” everywhere it appears and adding “this paragraph (b)(11)” in its place and removing “paragraph (b)(11)” and adding “paragraph (b)(12)” in its place; and

e. In newly redesignated paragraph (b)(12), redesignating table 5 to paragraph (b)(11)(ii) as table 5 to paragraph (b)(12)(ii) and note 3 to paragraph (b)(11) as note 3 to paragraph (b)(12).

The addition reads as follows:

§ 1.80 Forfeiture proceedings.

* * * * *

(b) * * *

(9) Forfeiture penalty for a failure to block. Any person determined to have failed to block illegal robocalls pursuant to § 64.6305(e) of this chapter shall be liable to the United States for a forfeiture penalty of no more than $22,021 for each violation, to be assessed on a per-call basis. In addition to the mitigating and aggravating factors set forth in table 1 to paragraph (b)(11) of this section, other factors to be considered in calculating a forfeiture amount under this paragraph shall include whether the violation includes failure to block calls to emergency services providers or public safety answering points or to numbers on a reasonable do-not-originate list.

* * * * *

PART 64—MISCELLANEOUS RULES RELATING TO COMMON CARRIERS

5. The authority citation for part 64 continues to read as follows:

Authority: 47 U.S.C. 151, 152, 154, 201, 202, 217, 218, 220, 222, 225, 226, 227, 227b, 228, 251(a), 251(e), 254(k), 255, 262, 276, 403(b)(2)(B), (c), 616, 620, 716, 1401-1473, unless otherwise noted; Pub. L. 115-141, Div. P, sec. 503, 132 Stat. 348, 1091.

Subpart HH—Caller ID Authentication

6. Amend § 64.6302 by revising paragraph (b) to read as follows:

§ 64.6302 Caller ID authentication by intermediate providers.

* * * * *

(b) Authenticate caller identification information for all calls it receives that use North American Numbering Plan resources that pertain to the United States in the caller ID field and for which the caller identification information has not been authenticated and which it will exchange with another provider as a SIP call.

7. Amend § 64.6304 by revising paragraph (b) to read as follows:

§ 64.6304 Extension of implementation deadline.

* * * * *

(b) Voice service providers and intermediate providers that cannot obtain an SPC token. Voice service providers that are incapable of obtaining an SPC token due to Governance Authority policy are exempt from the requirements of § 64.6301 until they are capable of obtaining a SPC token. Intermediate providers, including gateway providers, that are incapable of obtaining an SPC token due to Governance Authority policy are exempt from the requirements of § 64.6302(b) regarding call authentication.

* * * * *

8. Amend § 64.6305 by:

a. Revising the heading of paragraph (a) and paragraphs (a)(1) and (c)(2) introductory text;

b. Redesignating paragraphs (c)(4)(iv) and (v) as paragraphs (c)(4)(v) and (vi);

c. Adding a new paragraph (c)(4)(iv);

d. Redesignating paragraphs (d)(4)(iv) and (v) as paragraphs (d)(4)(v) and (vi);

e. Adding a new paragraph (d)(4)(iv);

f. Redesignating paragraph (e) as paragraph (f);

g. Adding a new paragraph (e); and

h. Revising newly redesignated paragraph (f).

The revisions and additions read as follows:

§ 64.6305 Robocall mitigation and certification.

(a) Robocall mitigation program requirements for voice service providers and intermediate providers (other than gateway providers). (1) Except those subject to an extension granted under § 64.6304(b), any voice service provider and intermediate provider, not including gateway providers, shall implement an appropriate robocall mitigation program with respect to calls that use North American Numbering Plan resources that pertain to the United States in the caller ID field.

* * * * *

(c) * * *

(2) A voice service provider shall include a robocall mitigation program consistent with paragraph (a) of this section and shall include the following information in its certification in English or with a certified English translation:

* * * * *

(4) * * *

(iv) All known principals, affiliates, subsidiaries, and parent companies of the intermediate provider;

* * * * *

(d) * * *

(4) * * *

(iv) All known principals, affiliates, subsidiaries, and parent companies of the intermediate provider;

* * * * *

(e) Certification by intermediate providers (other than gateway providers) in the Robocall Mitigation Database. (1) An intermediate provider shall certify to one of the following:

(i) It has fully implemented the STIR/SHAKEN authentication framework across its entire network and all calls it carries or processes are compliant with § 64.6302(b);

(ii) It has implemented the STIR/SHAKEN authentication framework on a portion of its network and calls it carries or processes on that portion of its network are compliant with § 64.6302(b); or

(iii) It has not implemented the STIR/SHAKEN authentication framework on any portion of its network for carrying or processing calls.

(2) An intermediate provider shall include the following information in its certification, in English or with a certified English translation:

(i) The specific reasonable steps the intermediate provider has taken to avoid carrying or processing illegal robocall traffic as part of its robocall mitigation program, including a description of how it has complied with the know-your-upstream provider requirement in § 64.1200(n)(4).

(ii) A statement of the intermediate provider's commitment to respond fully and in a timely manner to all traceback requests from the Commission, law enforcement, and the industry traceback consortium, and to cooperate with such entities in investigating and stopping any illegal robocallers that use its service to carry or process calls.

(3) All certifications made pursuant to paragraph (e)(1) of this section shall:

(i) Be filed in the appropriate portal on the Commission's website; and

(ii) Be signed by an officer in conformity with 47 CFR 1.16.

(4) An intermediate provider filing a certification shall submit the following information in the appropriate portal on the Commission's website:

(i) The intermediate provider's business name(s) and primary address;

(ii) Other business names in use by the intermediate provider;

(iii) All business names previously used by the intermediate provider;

(iv) All known principals, affiliates, subsidiaries, and parent companies of the intermediate provider;

(v) Whether the intermediate provider or any affiliate is also a foreign voice service provider; and

(vi) The name, title, department, business address, telephone number, and email address of one person within the company responsible for addressing robocall mitigation-related issues.

(5) An intermediate provider shall update its filings within 10 business days of any change to the information it must provide pursuant to paragraphs (e)(1) through (4) of this section, subject to the conditions set forth in paragraphs (c)(5)(i) and (ii) of this section.

(f) Intermediate provider and voice service provider obligations—(1) Accepting traffic from domestic voice service providers. Intermediate providers and voice service providers shall accept calls directly from a domestic voice service provider only if that provider's filing appears in the Robocall Mitigation Database in accordance with paragraphs (c) of this section and that filing has not been de-listed pursuant to an enforcement action.

(2) Accepting traffic from foreign providers. Beginning 90 days after the deadline for filing certifications pursuant to paragraph (d)(1) of this section, intermediate providers and voice service providers shall accept calls directly from a foreign voice service provider or foreign intermediate provider that uses North American Numbering Plan resources that pertain to the United States in the caller ID field to send voice traffic to residential or business subscribers in the United States, only if that foreign provider's filing appears in the Robocall Mitigation Database in accordance with paragraph (c) of this section and that filing has not been de-listed pursuant to an enforcement action.

(3) Accepting traffic from domestic intermediate providers. Intermediate providers and voice service providers shall accept calls directly from:

(i) A gateway provider, only if that provider's filing appears in the Robocall Mitigation Database in accordance with paragraph (d) of this section, showing that the gateway provider has affirmatively submitted the filing, and that the filing has not been de-listed pursuant to an enforcement action.

(ii) Beginning 90 days after the deadline for filing certifications pursuant to paragraph (e) of this section, a domestic intermediate provider, only if that provider's filing appears in the Robocall Mitigation Database in accordance with paragraph (e) of this section, showing that the intermediate provider has affirmatively submitted the filing, and that the filing has not been de-listed pursuant to an enforcement action.

[FR Doc. 2022-13878 Filed 7-15-22; 8:45 am]

BILLING CODE 6712-01-P